OFFICE OF THE UNITED STATES TRADE REPRESENTATIVE

Notice of Modification: China's Acts, Policies and Practices Related to Technology Transfer, Intellectual Property and Innovation

AGENCY: Office of the United States Trade Representative (USTR).

ACTION: Notice of modification of actions.

SUMMARY: In connection with the Four-Year Review of actions taken in the section 301 investigation of China's acts, policies, and practices related to technology transfer, intellectual property, and innovation, and in accordance with the specific direction of the President, the U.S. Trade Representative has determined to: modify the actions being taken in the investigation by imposing additional section 301 duties or increasing the rate of existing section 301 duties, on certain products of China in strategic sectors; propose increasing tariff rates for certain tungsten products, wafers, and polysilicon, with a public comment process to be set out via separate notice; provide a list of subheadings eligible for consideration of temporary exclusion under an exclusion process for certain machinery used in domestic manufacturing; and modify the actions to temporarily exclude from section 301 duties certain solar manufacturing equipment.

DATES: Tariff increases in 2024 are applicable with respect to products that are entered for consumption, or withdrawn from warehouse for consumption, on or after September 27, 2024. Tariff increases in 2025 and 2026 are applicable with respect to products that are entered for consumption, or withdrawn from warehouse for consumption, on or after January 1 of the corresponding year. Exclusions for solar equipment included in Annex B are retroactive and applicable with respect to products that are entered for consumption, or withdrawn from warehouse for consumption, on or after January 1, 2024, and through May 31, 2025.

FOR FURTHER INFORMATION CONTACT: For general questions about this notice, contact Philip Butler and Megan Grimball, Chairs of the Section 301 Committee at 202.395.5725. For specific questions on customs classification or implementation of the product exclusions, contact traderemedy@cbp.dhs.gov.

SUPPLEMENTARY INFORMATION:

A. Background

On August 24, 2017, the U.S. Trade Representative initiated an investigation into certain acts, policies, and practices of the Government of China related to technology transfer, intellectual property, and innovation under section 301 of the Trade Act of 1974, as amended (Trade Act) (19 U.S.C. 2411). See 82 FR 40213. In a notice published on April 6, 2018, the U.S. Trade Representative determined that acts, policies, and practices of the Government of China related to technology transfer, intellectual property, and innovation were unreasonable or discriminatory, and burdened or restricted U.S. commerce, and thus were actionable under section 301(b) of the Trade Act (19 U.S.C. 2411(b)). See 83 FR 14906.

Following a notice and comment process on the proposed action to be taken in the investigation, the U.S. Trade Representative took two actions under section 301 of the Trade Act: the July 6, 2018, action, covering an approximate annual trade value of $34 billion (List 1), and the August 23, 2018, action, covering an approximate annual trade value of $16 billion (List 2). See 83 FR 28710 (July 6, 2018, action) and 83 FR 40823 (August 23, 2018, action). These actions subsequently were modified by imposing additional duties on supplemental lists of products, known as Lists 3 and 4, as well as by the temporary removal of duties on certain products through product exclusions.

On May 5, 2022, USTR announced that under section 307(c)(2) of the Trade Act (19 U.S.C. 2417(c)(2)), the July 6, 2018, and August 23, 2018, actions, as modified, were subject to possible termination on their respective four-year anniversary dates (i.e., July 6, 2022, and August 23, 2022) and of the opportunity for representatives of domestic industries that benefit from the trade actions to request continuation of the actions during the last 60 days of such four-year periods. See 87 FR 26797.

On September 8, 2022, USTR announced that the July 6, 2018 and the August 23, 2018 actions, as modified, would remain in effect because at least one representative of a domestic industry that benefits from each action submitted to the U.S. Trade Representative a request for continuation of the actions. See 87 FR 55073. The notice also announced that in accordance with section 307(c)(3) of the Trade Act (19 U.S.C. 2417(c)(3)), the U.S. Trade Representative would conduct a review of the July 6, 2018 and the August 23, 2018 actions, as modified. See 87 FR 55073.

To aid in this review, on November 15, 2022, USTR opened a docket for interested persons to submit comments with respect to a number of considerations concerning the review. See 87 FR 62914. USTR received approximately 1,500 comments.

Based on information obtained during the review, including the public comments, USTR, in consultation with the Section 301 Committee, prepared a comprehensive report that included findings on the effectiveness of the July 6, 2018 and the August 23, 2018 actions, as modified, in achieving the objectives of the investigation, other actions that could be taken, and the effects of such actions on the United States economy, including consumers. The report, Four-Year Review of Actions Taken in the Section 301 Investigation: China's Acts, Policies, and Practices Related to Technology Transfer, Intellectual Property, and Innovation (Report), was published on May 14, 2024, and is available on the USTR website.

As detailed in the Report, the U.S. Trade Representative found that:

The section 301 actions have been effective in encouraging China to take steps toward eliminating some of its technology transfer-related acts, policies, and practices, and have reduced some of the exposure of U.S. persons and businesses to these technology transfer-related acts, policies, and practices.

China has not eliminated many of its technology transfer-related acts, policies, and practices, which continue to impose a burden or restriction on U.S. commerce. Instead of pursuing fundamental reform, China has persisted, and even become more aggressive, particularly through cyber intrusions and cybertheft, in its attempts to acquire and absorb foreign technology, which further burden or restrict U.S. commerce.

Economic analyses generally find that the duties have had small negative effects on U.S. aggregate economic welfare, positive impacts on U.S. production in the ten sectors most directly affected by the duties, and minimal impacts on economy-wide prices and employment.

Economic analyses, including the principal U.S. Government analysis published by the U.S. International Trade Commission, generally find that the section 301 tariffs have contributed to reducing U.S. imports of goods from China and increasing imports from alternate sources, including U.S. allies and partners, thereby potentially supporting U.S. supply chain diversification and resilience.

Based on the Report findings, the U.S. Trade Representative recommended to the President to maintain the section 301 tariffs on the covered products. To further encourage China to eliminate the investigated acts, policies, and practices, the U.S. Trade Representative also recommended enhancing the effectiveness of the tariff actions by adding or increasing section 301 tariffs on certain products in strategic sectors, including sectors targeted by China for dominance, or sectors where the United States recently made significant domestic investments. The U.S. Trade Representative found that “increasing or adding section 301 tariffs on products targeted by China for dominance will help encourage the elimination of investigated technology transfer-related acts, policies, and practices by encouraging alternative sourcing in strategic sectors of the economy, reducing U.S. reliance on China, while also reducing exposure to China's technology transfer-related acts, policies, and practices, and helping to maintain resilient, diverse, and secure supply chains.”

On May 14, 2024, taking into consideration the U.S. Trade Representative's findings in the Report and recommendations, the President issued a Memorandum (President's Memorandum) that directed the U.S. Trade Representative to: “maintain, as appropriate and consistent with this memorandum, the ad valorem rates of duty and lists of products subject to the [actions] taken under the section 301 investigation” and “[t]o further encourage China to eliminate the acts, policies, and practices at issue, and to counteract the burden or restriction of these acts, policies, and practices, the Trade Representative shall modify the [actions taken in the investigation] to increase section 301 ad valorem rates of duty” for certain specified products of China. See https://www.whitehouse.gov/briefing-room/presidential-actions/2024/05/14/memorandum-on-actions-by-the-united-states-related-to-the-statutory-4-year-review-of-the-section-301-investigation-of-chinas-acts-policies-and-practices-related-to-technology-transfer-intellectua/. In particular, the President's Memorandum specified categories of products for proposed tariff increases, tariff rates for those products, and year for tariff increases. With respect to tariff increases, the President directed increases on the following products:

• Battery parts (non-lithium-ion batteries)—Increase rate to 25% in 2024

• Electric vehicles—Increase rate to 100% in 2024

• Facemasks—Increase rate to no less than 25% in 2024

• Lithium-ion electrical vehicle batteries—Increase rate to 25% in 2024

• Lithium-ion non-electrical vehicle batteries—Increase rate to 25% in 2026

• Medical gloves—Increase rate to no less than 25% in 2026

• Natural graphite—Increase rate to 25% in 2026

• Other critical minerals—Increase rate to 25% in 2024

• Permanent magnets—Increase rate to 25% in 2026

• Semiconductors—Increase rate to 50% in 2025

• Ship-to-shore cranes—Increase rate to 25% in 2024

• Solar cells (whether or not assembled into modules)—Increase rate to 50% in 2024

• Steel and aluminum products—Increase rate to 25% in 2024

• Syringes and needles—Increase rate to no less than 50% in 2024

The President also directed the U.S. Trade Representative to establish a process by which interested persons may request that particular machinery used in domestic manufacturing classified within a subheading under Chapters 84 and 85 of the Harmonized Tariff Schedule of the United States (HTSUS) be temporarily excluded from section 301 tariffs, and directed the U.S. Trade Representative to prioritize, in particular, exclusions for certain solar manufacturing equipment.

Additionally, the White House released a statement further explaining how China's acts, policies, and practices have contributed to China's significant control of global production for the critical inputs necessary for U.S. technologies, infrastructure, energy, and healthcare and China's growing overcapacity and export surges, and how such control threatens U.S. supply chains and economic security. See https://www.whitehouse.gov/briefing-room/statements-releases/2024/05/14/fact-sheet-president-biden-takes-action-to-protect-american-workers-and-businesses-from-chinas-unfair-trade-practices/.

B. Proposed Modification to the Actions

Consistent with the President's direction, USTR issued a Federal Register notice with proposed modifications. See 89 FR 46252 (May 28, 2024) (May 28 notice). In the May 28 notice, the U.S. Trade Representative proposed increasing section 301 duties on 382 HTSUS subheadings and 5 statistical reporting numbers of the HTSUS, with an approximate annual trade value of $18 billion (2023). Additionally, the U.S. Trade Representative proposed subheadings eligible for consideration for temporary exclusion under a process by which interested persons may request that particular machinery used in domestic manufacturing and classified within certain subheadings under Chapters 84 and 85 of HTSUS be temporarily excluded. Finally, the U.S. Trade Representative proposed 19 temporary exclusions for solar manufacturing equipment. In accordance with section 307(a)(2) of the Trade Act (19 U.S.C. 2417(a)(2)), USTR invited comments from interested persons with respect to the proposed modifications, the scope of the machinery exclusion process, and the temporary exclusions for solar manufacturing equipment. USTR opened a 30-day docket on May 29, 2024.

With respect to the proposed tariff increases, USTR requested commenters to address the effectiveness of the proposed modification, the effects of the proposed modification on the U.S. economy, including consumers, and whether the tariff subheadings or statistical reporting numbers identified for each product or sector adequately cover the products and sectors included in the President's direction to the U.S. Trade Representative. In addition, for facemasks, needles and syringes, and medical gloves, consistent with the President's direction to increase tariffs no less than specified rates, USTR requested comment on whether the rates of additional duty should be higher than the proposed rates, and with respect to facemasks, whether additional statistical reporting numbers under HTSUS subheading 6307.90.98 should be included.

With respect to the machinery exclusion process, USTR requested comments on whether the subheadings proposed should or should not be eligible for consideration in the machinery exclusion process and whether certain subheadings under Chapters 84 and 85 that cover machinery used in domestic manufacturing were omitted and should be included. Finally, with respect to the 19 proposed solar manufacturing machinery exclusions, USTR requested comments on the scope of each exclusion, including suggested amendments to the product description.

In response to the May 28 notice, USTR received more than 1,100 comments. Of the comments received, approximately 420 comments expressed views about the proposed tariff increases on certain products, approximately 656 comments expressed views about the proposed subheadings eligible for consideration of temporary exclusions under an exclusion process for machinery used in domestic manufacturing, and approximately 80 comments expressed views about the proposed 19 temporary exclusions for solar manufacturing equipment. The public submissions are available at https://comments.ustr.gov, docket number USTR-2024-0007.

C. Determination To Modify the Actions

Pursuant to sections 307(c) and 307(a)(1) of the Trade Act (19 U.S.C. 2417(c), (a)(1)), the U.S. Trade Representative may modify or terminate any action, subject to the specific direction, if any, of the President with respect to such action, that is being taken under section 301 if the burden or restriction on U.S. commerce of the acts, policies, and practices that are the subject of such action has increased or decreased, or such action is being taken under section 301(b) and no longer is appropriate.

As detailed in USTR's Report, modification of the action is warranted under section 307(a)(1)(B) as many of the technology transfer-related acts, policies, and practices described in the original section 301 Report persist and increasingly burden or restrict U.S. commerce. Rather than eliminate the technology transfer-related acts, policies, and practices that are the subject of the section 301 investigation, the Report reviews how China has become more aggressive, particularly through cybertheft and cyber intrusions, in its attempts to acquire and absorb foreign technology and IP on a nonconsensual basis from U.S. companies, costing U.S. companies and consumers billions of dollars, and adding to the burden or restriction on U.S. commerce.

Modification of the actions also is appropriate under section 307(a)(1)(C). The term “appropriate”' as used in subsection C refers to section 301(b), which requires the U.S, Trade Representative to “take all appropriate and feasible action authorized under [section 301(c)] to obtain the elimination of [the] act, policy, or practice.” The specific action that will obtain the elimination of an act, policy, or practice is a matter of predictive judgment, to be exercised by the U.S. Trade Representative, subject to any specific direction of the President. China's actions over the review period, as discussed in USTR's Report has shown that maintaining the current action is no longer appropriate in order to induce China to eliminate its acts, policies, or practices.

Modification of the actions is further warranted considering the findings in USTR's Report on the effectiveness of the prior actions in achieving the objectives of the investigation other actions that could be taken, and the effects of such actions on the U.S. economy, including consumers.

The President has exercised his authority under section 307 to direct the U.S. Trade Representative to modify the actions being taken in the investigation. Specifically, as discussed above, the President directed the U.S. Trade Representative to increase the rates of duty for specified goods, with specified rates and timing. Additionally, the President directed the U.S. Trade Representative to establish an exclusion process for machinery used in domestic manufacturing classified within a subheading under Chapters 84 and 85 of the HTSUS and to prioritize, in particular, exclusions for certain solar manufacturing equipment.

The modifications to the actions are set out in the Annexes to this notice. The U.S. Trade Representative's determination takes account of the public comments, the President's direction of May 14, 2024, the policy rationale underlying the President's direction, as well as the advice of the interagency section 301 committee and appropriate advisory committees.

Section 301(c)(3)(B) of the Trade Act (19 U.S.C. 2411(c)(3)(B)) authorizes the U.S. Trade Representative to take action against any goods or economic sector of the foreign country concerned regardless of whether or not such goods or economic sector are involved in the act, policy, or practice subject to investigation. The modifications include increasing section 301 duties on 382 HTSUS subheadings and 7 statistical reporting numbers of the HTSUS under 14 product groups. Additionally, the U.S. Trade Representative is modifying the actions to temporarily exclude from additional duties certain solar manufacturing equipment under 14 product specific exclusions.

As outlined below, in consideration of public comments and the advice of the section 301 committee, the U.S. Trade Representative has made certain adjustments to the modifications proposed in May 28 notice. The adjustments and the reasons for them are discussed below in USTR's response to significant comments.

Annex A contains an informal table of the tariff increases under the 14 product groups specified by the President and the 382 subheadings and 7 statistical reporting numbers, the tariff rates, and years for tariff increases. Annex B contains the 14 temporary exclusions for solar manufacturing equipment. Annex C contains the HTSUS modifications to impose additional duties, to increase rates of additional duties, and to exclude certain solar manufacturing equipment from additional duties. Annex D contains the Importer Certification for ship-to-shore cranes entering under the exclusion. Annex E contains a list of HTSUS subheadings eligible for consideration of temporary exclusion under the machinery exclusion process.

Any product listed in the Annexes to this notice, which is subject to the additional duties imposed by this determination, and that is admitted into a U.S. foreign trade zone, except any product that is eligible for admission under “domestic status” as defined in 19 CFR 146.43, only may be admitted as “privileged foreign status,” as defined in 19 CFR 146.41, effective as of the date that the additional duties are imposed. Products of China that are provided for in headings 9903.91.01, 9903.91.02, and 9903.91.03, and listed in subdivisions (b), (c) and (d), respectively, of U.S. note 31 to subchapter III of chapter 99 of the HTSUS, as well as products of China that are provided for in HTSUS subheading 9903.92.10, which are admitted into a U.S. foreign trade zone on or after 12:01 a.m. eastern daylight time on September 27, 2024, only may be admitted as “privileged foreign status.” Products of China that are provided for in headings 9903.91.04 and 9903.91.05, and listed in subdivisions (e) and (f) of U.S. note 31 to subchapter III of chapter 99 of the HTSUS that are admitted into a U.S. foreign trade zone on or after 12:01 a.m. eastern daylight time on January 1, 2025, only may be admitted as “privileged foreign status.” Products of China that are provided for in headings 9903.91.06, 9903.91.07, and 9903.91.08, and listed in subdivisions (g), (h) and (i), respectively, of U.S. note 31 to subchapter III of chapter 99 of the HTSUS that are admitted into a U.S. foreign trade zone on or after 12:01 a.m. eastern daylight time on January 1, 2026, only may be admitted as “privileged foreign status.” All such products will be subject upon entry for consumption to any ad valorem rates of duty or quantitative limitations related to the classification under the applicable HTSUS subheading.

D. USTR's Responses to Significant Comments

As discussed above, in light of findings in USTR's Report, the U.S. Trade Representative recommended to the President that duties be added or increased on certain products in strategic sectors. The U.S. Trade Representative limited recommendations to the President to categories of products targeted by China for dominance and/or sectors where the U.S. recently made significant domestic investments, thus incentivizing China to eliminate the investigated acts, policies, and practices, and mitigating possible harm to the U.S. economy. The President agreed with the U.S. Trade Representative's recommendation and has exercised his authority to direct specific modifications to the actions being taken in the investigation.

Response to Significant Comments on Proposed Tariff Increases

Battery Parts (Non-Lithium-ion Batteries): The President directed the U.S. Trade Representative to increase tariffs on battery parts for non-lithium-ion batteries to 25 percent in 2024. In response to the President's direction, the U.S. Trade Representative proposed increasing tariffs on one HTSUS subheading: 8507.90.40 (Parts of lead-acid storage batteries, including separators therefor).

The single comment on the proposed modification notes that broad tariffs have not significantly altered China's acts, policies, and practices and suggests that new U.S. initiatives, such as the Inflation Reduction Act would be more effective. Additionally, the comment notes that the proposed modifications will slow U.S. efforts to boost domestic production and adoption of electric vehicles.

For the final determination, the U.S. Trade Representative has determined not to amend the proposed modification. As noted in USTR's Report, the proposed modifications complement the significant investments as a result of the Inflation Reduction Act and the Bipartisan Infrastructure Law into clean energy technology, clean energy supply chains, and clean energy manufacturing. Increasing section 301 duties on tariff lines covering certain sectors will help support these investments, encourage diversification away from Chinese sources, and provide additional leverage with China to eliminate the investigated acts, policies, and practices.

Electric Vehicles: The President directed the U.S. Trade Representative to increase additional duties on electric vehicles to 100 percent in 2024. In response to the President's direction, the U.S. Trade Representative proposed increasing duties on eight HTSUS subheadings.

Some comments request that USTR narrow the scope of products covered by the eight subheadings by distinguishing between low-speed vehicles, such as passenger shuttles and mobility scooters, and higher speed passenger vehicles that operate on public roads and highways. While the comments urge the U.S. Trade Representative to distinguish between vehicles based on maximum speed or road readiness, the U.S. Trade Representative's proposal, consistent with Presidential direction, was intended to cover a wide range of electric motor vehicles that incorporate high-tech motors and batteries. The products included under the proposed subheadings meet the objective to target sophisticated technologies where China seeks dominance and where the individual products are part of the same continuum of products.

One comment requests that electric buses that fulfill contracts executed prior to the proposed modification be excluded from the additional duties. Unlike with ship-to-shore cranes (discussed below), where multiple comments allege broad economic consequences, the single comment, when considering China's industrial policies targeting electric vehicles could threaten federal investment in the sector, does not demonstrate broad economic consequences such that an exclusion is warranted.

Comments also request that USTR broaden the scope of products covered. One comment remarks that the proposed modifications do not adequately cover the full scope of products included in the President's direction because the proposal does not include motorcycles (including mopeds) and electric bicycles under HTSUS subheading 8711.60.00. Another comment asserts that the proposed modification should be expanded to include HTSUS subheading 8703.10.50 (golf carts and similar vehicles).

With respect to motorcycles and electric bicycles, in reviewing the President's direction, the U.S. Trade Representative has determined that electric bicycles and motorcycles are distinct from what is traditionally understood as “electric vehicles” and fall outside the specific direction of the President. Similarly, electric golf carts and similar vehicles may be understood to fall outside the specific direction of the President. While these subheadings may include products with some overlapping technology to the subheadings covered, limiting the modification to the primary subheading covering traditional electric vehicles is most consistent with the President's direction.

As a result of China's efforts to dominate the electric vehicles market, China now produces 70 percent of the world's electric cars—jeopardizing productive investments elsewhere. The U.S. Trade Representative has determined that modification to increase the duties on electric vehicles will encourage diversification from Chinese sources, while also advancing U.S. policy to incentivize the development of, and investments in, a robust electric vehicle market, reducing exposure to China's technology transfer-related acts, policies, and practices, and providing additional leverage with China to eliminate the investigated acts, policies, and practices.

Facemasks: The President directed the U.S. Trade Representative to increase tariffs on facemasks to no less than 25 percent in 2024. In response, the U.S. Trade Representative proposed three statistical reporting numbers. These included 6307.90.9845 (N95 Respirators of textiles); 6307.90.9850 (respirators of textiles, other than N95); and 6307.90.9875 (face masks of textiles, other than disposable). USTR requested commenters to address whether additional statistical reporting codes under HTSUS subheading 6307.90.98 should be included and whether the tariff rates should be higher than the proposed 25 percent rate.

Several commenters note that as of January 1, 2023, statistical reporting number 6307.90.9845 (N95 Respirators of Textiles) was replaced with two statistical reporting numbers. For the final modifications, USTR has replaced statistical reporting number 6307.90.9845 (N95 Respirators of Textiles) with statistical reporting numbers 6307.90.9842 (surgical N95 respirators) and 6307.90.9844 (other N95 respirators). This adjustment does not change the scope of the products covered.

Other comments express concerns about the availability of facemasks outside of China and possible disruption to the supply of facemasks and higher costs for healthcare providers. As USTR found in the Report, increasing section 301 duties on certain personal protective equipment will help protect recent investments in increasing domestic production and in U.S. preparedness. As a result of those investments, the United States has, or is expected to have, sufficient domestic capacity. Several commenters agreed with this finding. Additionally, increasing tariffs on facemasks will encourage diversification away from China, improve supply chain resiliency, and create greater leverage with China to eliminate the investigated acts, policies, and practices.

A number of comments suggest adding statistical reporting number 6307.90.9870 (face masks of textile, disposable). Additional comments suggest adding textile subheadings that cover personal protective equipment, but not facemasks. Regarding the proposed tariff rate, several comments suggest rates higher than the proposed tariff rate, including 50 percent, 100 percent, and “the highest rate possible.” A few comments suggest that any rate increase be gradual due to possible limitations on availability outside of China.

Considering the public comments, the advice of the Section 301 Committee, and consistent with the President's direction, the U.S. Trade Representative has determined to add statistical reporting number 6307.90.9870 (face masks of textile, disposable), but not to add additional textile subheadings that do not cover facemasks. Additionally, for most statistical reporting numbers, the U.S. Trade Representative has determined to increase tariff rates to 25 percent in 2024 and to further increase rates in 2026 to 50 percent. Delaying the increase to 50 percent in 2026 is consistent with the President's direction, but balances requests for a rate higher than 25 percent with the public comments requesting that rates increase gradually. For statistical reporting number 6307.90.9870 (face masks of textile, disposable), the U.S. Trade Representative has determined to increase the tariff rate to 25 percent in 2025 and to further increase the rate in 2026 to 50 percent.

Lithium-ion Batteries: The President directed the U.S. Trade Representative to increase tariffs on lithium-ion batteries to 25 percent, with “lithium-ion electrical vehicle batteries” increasing in 2024 and “lithium-ion non-electrical vehicle batteries” increasing in 2026. In response, the U.S. Trade Representative proposed increasing tariffs on two statistical reporting numbers. One covers lithium-ion batteries for passenger vehicles (8507.60.0010), and a second covers lithium-ion batteries for a broad range of applications, including electric vehicles, other than passenger vehicles (8507.60.0020). The U.S. Trade Representative proposed increasing tariffs on 8507.60.0010 (Lithium-ion batteries of a kind used as the primary source of electrical power for electrically powered vehicles of subheadings 8703.40, 8703.50, 8703.60, 8703.70 or 8703.80) in 2024 and on 8507.60.0020 (Lithium-ion batteries: Other) in 2026.

Several commenters request that additional codes be added, including for a subheading covering certain inputs or precursor materials used to manufacture lithium-ion batteries. Additionally, USTR received comments requesting that certain lithium-ion batteries covered by the proposed subheadings, but intended for a particular use, be excluded.

The U.S. Trade Representative has determined that the requests to remove particular batteries are inconsistent with the President's direction, which broadly covers all lithium-ion batteries, and are inconsistent with the goals of diversifying supply chains and of reducing our reliance on China in an industry targeted by China for dominance. With respect to the inputs and precursor materials used in the production of lithium-ion batteries, these products are beyond the scope of the President's direction, which is limited to complete batteries.

Medical Gloves: The President directed the U.S. Trade Representative to increase tariffs on medical gloves to no less than 25 percent in 2026. In response, the U.S. Trade Representative proposed increasing tariffs to 25 percent in 2026 on one statistical reporting number.

Comments opposing the proposed modification allege that increasing duties on medical gloves will raise medical care costs and impact patient care. Additional comments request that the increase in tariffs be delayed. Comments generally assert that the production of medical gloves is centralized in China and Malaysia, and that additional duties would push production to Malaysia, rather than to the United States. They also assert there is no large-scale domestic production capacity for nitrile gloves, specifically citing a January 2024 Made in America Act Waiver statement by Federal agencies concerning domestic availability of nitrile gloves.

In general, comments supporting the proposed modification suggest that, given the artificially low prices of imports from China, the modification would be more effective if tariffs rates were increased to 100 percent or higher, increased prior to 2026, and possibly increased gradually. One comment also suggested including gloves falling under HTSUS 4015.19 that are not for medical or surgical use.

Considering the public comments, the specific direction of the President to increase tariffs on medical gloves no less than 25 percent in 2026, and the advice of the Section 301 Committee, particularly agencies involved in U.S. medical preparedness, the U.S. Trade Representative has determined to increase the rate of additional duties on medical gloves to 50 percent in 2025 and to 100 percent in 2026.

The United States expects domestic production of nitrile gloves will increase over the next year, due in part to domestic investments for critical medical supplies, including medical gloves. Recent investments include CARES Act funding that aims to continue support of U.S. preparedness and of domestic production of critical medical supplies following the COVID pandemic. Increasing tariffs to 50 percent in 2025 will help protect those investments and will encourage diversification to sources other than China. While China currently accounts for a significant share of U.S. imports of nitrile gloves, the increasing availability from U.S. sources and third-country sources will provide the U.S. healthcare systems with alternative sourcing. An additional increase in tariff rates in 2026 is warranted, considering the expected increase in U.S. and third-country sources, and is responsive to those comments requesting a higher tariff, and will provide additional leverage with China to eliminate the investigated acts, policies, and practices.

With respect to additional gloves that are not for medical or surgical use, these products are beyond the scope of the President's direction, which is limited to medical gloves. Accordingly, the U.S. Trade Representative has determined not to amend the proposed modification to include these products.

Natural Graphite: The President directed the U.S. Trade Representative to increase tariffs on natural graphite to 25 percent in 2026. In response to the President's direction, the U.S. Trade Representative proposed to increase tariffs on three subheadings covering three different forms of natural graphite.

Most comments supported the proposed increase in tariffs, with some comments requesting a higher tariff rate than the proposed rate. Several of these comments also requested that certain additional inputs for lithium-ion batteries be included and treated similarly to natural graphite. The few comments opposing the additional duties generally assert that the proposed modifications would result in higher prices, would not be effective in obtaining the elimination of China's acts, policies, and practices, and could result in possible retaliation from China. China has targeted the processing of critical minerals to become the global leader in the critical minerals supply chains. Continued reliance on China for refining capacity of critical minerals, including natural graphite, leaves U.S. supply chains vulnerable and puts U.S. national security and clean energy goals at risk. Increasing the tariffs on natural graphite would encourage diversification away from China and would provide additional leverage with China to eliminate the investigated acts, policies, and practices. Tariffs would also protect U.S. investments in a sufficient domestic industrial base for natural graphite and would improve the resiliency of the U.S. battery supply chain.

For these reasons, and considering the President's direction, and the advice of the Section 301 Committee, the U.S. Trade Representative has determined not to amend the proposed modifications.

Other Critical Minerals: The President directed the U.S. Trade Representative to increase tariffs on certain critical minerals to 25 percent in 2024. In response to the President's direction, the U.S. Trade Representative proposed increasing tariffs on 26 subheadings.

The majority of comments opposing increases specifically oppose increasing tariffs on 2606.00.00 (aluminum ores and concentrates) and 2849.90.30 (tungsten carbides). They assert limited availability of the minerals outside of China and higher costs. Other comments suggest the removal of five additional subheadings. Only three of these subheadings received more than one comment requesting removal: 8103.20.00 (Tantalum, unwrought (including bars and rods obtained simply by sintering); tantalum powders); 8112.21.00 (Chromium, unwrought; chromium powders); and 8112.92.30 (Indium, unwrought; indium powders).

The majority of comments supporting the proposed modifications specifically support increasing tariffs on the four subheadings covering tungsten products. These comments state that tariffs on various tungsten-related inputs will benefit domestic manufacturing by reducing domestic reliance on Chinese imports, establishing an independent domestic supply chain, and reducing Chinese access to the intellectual property and technologies of U.S. companies. Several comments emphasize the importance of tungsten-related inputs to various critical sectors, such as aerospace, automotive, defense, medical, and oil and gas sectors. Some of these comments request that the tariffs on tungsten-related products be increased to 50 percent.

The remaining comments supporting higher tariffs cover various critical minerals; most support the higher tariffs to counteract China's dominance in the market and note that current tariff levels are insufficient. Most of these comments also note that higher tariffs will have a minimal impact on the domestic economy due to current availability of products from sources outside of China or availability from new sources. Comments also note that higher tariffs are critical to the new investments that help to diversify supply chains.

In addition to supporting the proposed modifications, several comments also request that additional subheadings be added, including three subheadings covering additional tungsten products. Additional comments request the addition of certain uranium subheadings, as well as a subheading covering vanadium chlorides.

Considering the public comments and the advice of the Section 301 Committee, the U.S. Trade Representative has determined not to remove any subheadings. China has targeted the processing of critical minerals to become the global leader in the critical minerals supply chains for electric vehicle batteries, solar products, semiconductors, and other key products. The concentration of critical minerals mining and refining capacity in China leaves our supply chains vulnerable and puts our national security and clean energy goals at risk. Additionally, for many of the products with comments requesting removal, U.S. import data show that in recent years China has attempted to dominate supply chains by significantly increasing its share of imports. For these products, additional duties will help to maintain existing diversity in the supply chains and increase leverage with China to eliminate the investigated acts, policies, and practices. Regarding 2606.00.00 (aluminum ores and concentrates), U.S. import data show that China's share is relatively small (less than 20 percent). While China's share of imports under statistical reporting number 2606.00.00.30 (bauxite, calcined: refractory grade) is more significant, Guyana, a second source, is almost as large as China, and higher tariffs may help to encourage greater diversification. Regarding 2849.90.30 (tungsten carbides), imports from China have increased significantly in recent years, but alternative sources remain. Increasing tariffs will support current supply chain diversity. Additionally, public comments note recent investments in domestic refining.

The U.S. Trade Representative also has determined not to add certain proposed subheadings for uranium and vanadium chlorides. These subheadings are either already subject to section 301 tariffs of 25 percent, or China's share of imports is small and declining. Regarding the three tariff subheadings covering tungsten products and requested for addition, the U.S. Trade Representative has determined to propose increasing tariff rates for these three subheadings to 25 percent. To that end, USTR will publish a separate notice with procedures for interested parties to provide views on increasing tariffs on subheadings: 8101.94.00 (Tungsten, unwrought (including bars and rods obtained simply by sintering)); 8101.99.10 (Tungsten bars and rods (o/than those obtained simply by sintering), profiles, plates, sheets, strip and foil); and 8101.99.80 (Tungsten, articles nesoi).

Permanent Magnets: The President directed the U.S. Trade Representative to impose tariffs of 25 percent on permanent magnets in 2026. In response to the President's direction, the U.S. Trade Representative proposed additional duties on products under one subheading (8505.11.00).

Several comments request that tariffs on permanent magnets not be increased, noting that permanent magnets are an intermediate good used in a variety of applications and products, including consumer goods. Citing a Department of Commerce report from 2023, comments assert limited availability of permanent magnets outside of China, including from domestic sources.

Comments in support of the proposed modification highlight the vulnerability of the U.S. economy and national security as a result of our continued reliance on China for permanent magnets, and in particular NdFeB, which are critical for electric vehicle motors (an area where China seeks dominance), as well as defense applications. The comments assert that the potential impact on U.S. consumers from the proposed modification would be minimal, as permanent magnets generally account for a low percentage of the total cost of final goods.

Considering the comments and the advice of the Section 301 Committee, and consistent with the President's direction, the U.S. Trade Representative has determined to impose additional tariffs on products falling under subheading 8505.11.00. The 2023 Department of Commerce report indicates that at the time of the report the demand for permanent magnets outpaced domestic manufacturing capacity, but the report also notes federal investments and other efforts in support of reestablishing domestic production capacity, as well as plans for three U.S.-headquartered firms to establish U.S. NdFeB magnet manufacturing facilities by 2026. Increasing tariffs on permanent magnets in 2026 accounts for the current limited availability of permanent magnets outside of China, complements the upcoming investments in domestic production, and further encourages domestic investments.

Semiconductors: The President directed the U.S. Trade Representative to increase tariffs on semiconductors to 50 percent in 2025. In response to the President's direction, the U.S. Trade Representative proposed increasing tariffs on 16 subheadings.

Several comments highlight the importance of semiconductors in a variety applications and critical sectors, including the healthcare and solar industries. Comments note that following the enactment of the Creating Helpful Incentives to Produce Semiconductors (CHIPS) and Science Act in 2022, the United States has made progress in investing in domestic production and in recapturing semiconductor manufacturing from China's dominance. Comments also assert that imports from China undermine that progress and the incentives under the CHIPS Act. Comments assert that the tariffs have helped to stimulate domestic manufacturing, support supply chain resiliency, and reduce our dependence on China. One comment suggests broadening the modifications to capture semiconductors entering the United States in downstream products.

Comments opposing the increase in tariffs on semiconductors primarily comment on the financial impact of the tariffs on U.S. companies and the U.S. economy. These commenters assert that the increased duties will increase domestic manufacturing costs, will be passed on to consumers, will contribute to domestic inflation, and will reduce the competitiveness of U.S. products in the global market. Comments also state that increased manufacturing costs may encourage U.S. companies to move manufacturing out of the United States to third countries.

Aside from advocating for the removal of the tariffs, comments opposing the tariffs also propose several alternatives to increased duties. One commenter argues that an effective alternative to the tariffs would be bilateral policy discussions between the United States and China. Another commenter suggests additional programs that strengthen domestic manufacturing, such as under the CHIPS and Science Act and the Inflation Reduction Act, would be more effective than imposing higher tariffs. Alternatively, the same commenter suggests a longer transition time to allow for additional manufacturing, noting that CHIPS funding has yet to be fully disbursed and it may take several years before domestic semiconductors will be available. Some comments request the removal of certain subheadings. They generally assert that the tariffs would increase prices and harm domestic manufacturing. One comment asserts that the tariffs are counterproductive to the Administration's goals to increase domestic production of electric vehicles.

Considering the public comments, the advice of the Section 301 Committee, and consistent with the direction of the President, the U.S. Trade Representative has determined that excluding particular products or subheadings is not warranted. China has targeted the semiconductor sector for dominance and is rapidly expanding its capacity, particularly for foundational semiconductors. Through the CHIPS and Science Act, the United States is making a nearly $53 billion investment in American semiconductor manufacturing capacity, research, innovation, and workforce. This investment will encourage diversification to alternative sources, providing additional leverage with China to eliminate the investigated acts, policies, and practices, and will help counteract decades of disinvestment and offshoring that has reduced the United States' capacity to manufacture semiconductors domestically. Raising the tariff rate on semiconductors is an important initial step to complement the sustainability of these investments. Accordingly, the U.S. Trade Representative has determined to increase tariffs on the 16 proposed subheadings.

Ship-to-shore cranes: The President directed the U.S. Trade Representative to increase tariffs on ship-to-shore cranes to 25 percent in 2024. In response to the President's direction, the U.S. Trade Representative proposed increasing tariffs on certain ship-to-shore cranes (transporter cranes, gantry cranes, and bridge cranes) under subheading 8426.19.00.

In addressing the effectiveness and impact of the proposed tariff increase, a number of commenters assert that because the lead time for purchasing ship-to-shore cranes is often more than two years, the additional duties would increase costs significantly on purchases contracted for well before the proposed modification. Additionally, due to purchase contracts, the increased tariffs would not be effective in obtaining the elimination of, or in counteracting China's acts, policies, and practices and would broadly impact U.S. ports and the U.S. economy. The majority of comments suggest delaying the additional duties until 2026 to allow cranes under contracts executed prior to the announced proposed modifications to enter without the section 301 duties.

Considering the possible broad economic impact discussed in the comments, and consistent with the President's direction, the U.S. Trade Representative has determined to increase duties on ship-to-shore cranes in 2024, but will allow for exclusions for cranes that fulfill contracts executed prior to May 14, 2024, and that enter the United States prior to May 14, 2026. The exclusion balances the possible impact on the U.S. economy with the security interests of the United States from the threat of Chinese state-sponsored cyber intrusions of critical infrastructure.

Ship-to-shore gantry cranes, configured as a high- or low-profile steel superstructure and designed to unload intermodal containers from vessels with coupling devices for containers, including spreaders or twist-locks (provided for in subheadings 8426.19.00), will be exempt, provided: (1) they are fulfilling in whole or in part an executed contract for sale dated prior to May 14, 2024, for goods that are entered for consumption, or withdrawn from warehouse for consumption, in the United States prior to May 14, 2026, and (2) the importer completes the certification in Annex D to this notice and provides the completed certification as part of the importer's electronic entry summary to U.S. Customs and Border Protection by uploading it to the Document Imaging System in the Automated Commercial Environment at the time that classification is declared under heading 9903.91.09 of the HTSUS.

Solar Cells (whether or not assembled into modules): The President directed the U.S. Trade Representative to increase tariffs on solar cells to 50 percent in 2024. In response to the President's direction, the U.S. Trade Representative proposed increasing tariffs on two subheadings.

Comments supporting the tariff increases assert that the tariffs are critical to counter China's unfair policies and practices that target the solar industry. They note that China has invested in the long-term dominance of the global solar supply chain, which has resulted in limited alternatives and increasing dependence on Chinese suppliers. The comments assert that increasing the tariffs will allow the burgeoning domestic industry to compete, creating a more resilient domestic supply chain, improving U.S. energy security, and promoting clean energy initiatives.

Comments also note that initiatives, such as the Inflation Reduction Act and the CHIPS and Science Act, provide critical incentives to the shift solar supply chains to the United States, but these incentives are threatened by solar imports from China. Two comments suggest that additional subheadings be added to cover certain inputs used in manufacturing solar cells. The two subheadings are: 2804.61.00 (Silicon containing by weight not less than 99.99 percent of silicon); and 3818.00.00 (Chemical elements doped for use in electronics, in the form of discs, wafers etc., chemical compounds doped for electronic use).

There were no comments opposing the proposed subheading, but one comment requested that a statistical reporting number under one of the subheadings be excluded (8541.43.0010). The commenter asserts that the products covered by the statistical reporting number should be excluded because they are not the subject of technology-transfer agreements and increasing the tariffs will result in higher prices.

Considering the comments, and the advice of Section 301 Committee, and consistent with the direction of the President to increase tariffs on solar cells (whether or not assembled into modules), the U.S. Trade Representative has determined that removing statistical reporting number 8541.43.0010 is not warranted merely because it has not been subject to China's acts, policies, and practices or may result in higher prices. See section 301(c)(3)(B) of the Trade Act (19 U.S.C. 2411(c)(3)(B)).

Regarding the request to add subheadings 2804.61.00 and 3818.00.00, the U.S. Trade Representative has determined to propose increasing tariff rates for these two subheadings to 50 percent. The polysilicon and wafers that are imported under these two subheadings are critical for manufacturing solar cells and semiconductors. As noted in USTR's Report, China now dominates manufacturing capacity for polysilicon and wafers, accounting for 93 percent of polysilicon manufacturing capacity and 95 percent of wafer capacity. China's dominance in the manufacturing of wafers and polysilicon is likely to undermine new investments in domestic manufacturing, impede the resiliency of U.S. supply chains for solar cells and semiconductors, and undermine the effectiveness of the tariffs on solar cells and semiconductors. Accordingly, USTR will publish a separate notice with procedures for interested parties to provide views on increasing tariffs on subheadings: 2804.61.00 (Silicon containing by weight not less than 99.99 percent of silicon); and 3818.00.00 (Chemical elements doped for use in electronics, in the form of discs, wafers etc., chemical compounds doped for electronic use).

Increasing tariffs on the two proposed subheadings will encourage the diversification of supply chains and will lessen dependence on China for these products, providing additional leverage with China to eliminate the investigated acts, policies, and practices. The tariffs also complement other Administration goals that seek to defend the United States against China's policy-driven non-market excess capacity, which has led to extreme concentration of production in China and underpriced exports. Accordingly, the U.S. Trade Representative has determined to increase tariffs on the two proposed subheadings.

Steel and Aluminum: The President directed the U.S. Trade Representative to increase tariffs on steel and aluminum products to 25 percent in 2024. In response to the President's direction, the U.S. Trade Representative proposed increasing or adding tariffs on 321 steel and aluminum subheadings in 2024.

The 321 subheadings are within the scope of products subject to additional duties under section 232 of the Trade Expansion Act of 1962, as amended, but are not currently subject to 25 percent duties under section 301. Increasing or adding duties to these 321 subheadings would make nearly all of the steel and aluminum subheadings that are within the scope of the section 232 investigations of steel and aluminum subject to 25 percent duties under section 301and will reduce opportunities for circumvention, making the actions more effective. USTR did not propose adding or increasing section 301 duties on 17 subheadings within the scope of products covered by section 232. Data from the Department of Commerce's section 232 exclusion process show that a majority of exclusions requested for products under the 17 subheadings were granted, and there is limited availability for the products outside of China.

Several commenters suggest USTR include additional tariff codes covering upstream and downstream products related to steel and aluminum, but outside the scope of the section 232 investigations. The U.S. Trade Representative has determined not to add subheadings outside the scope of the section 232 investigations on steel and aluminum and has determined that it is appropriate to use the same scope of products covered by the section 232 investigations that were defined by Presidential proclamation. See Proclamation 9704 of March 8, 2018 (Adjusting Import of Aluminum into the United States), and Proclamation 9705 of March 8, 2018 (Adjusting Imports of Steel into the United States).

Some commenters suggest USTR include the 17 subheadings covered by the section 232 investigations that were not proposed for tariff increases. Under the Department of Commerce's exclusion process for section 232 products, products are granted exclusion either where they are not produced in the United States in sufficient and reasonably available amounts, or where there is a specific national security consideration. As noted above, for products under these 17 subheadings, Commerce granted exclusions, and data indicates that these products have limited availability outside of China. Accordingly, the U.S. Trade Representative has determined that it would not be appropriate to increase tariffs on these 17 subheadings.

Syringes and needles: The President directed the U.S. Trade Representative to increase tariffs on syringes and needles to no less than 50 percent. In response to the President's direction, the U.S. Trade Representative proposed increasing tariffs on two subheadings. USTR requested commenters to address whether the tariff rate should be higher than the proposed rate.

Regarding the proposed rate, several comments suggest that higher rates would help support domestic manufacturing and recommended rates as high as 100 percent. Most comments opposing the proposed increase simply note that prices would likely increase. However, a large number of comments report a limited availability of enteral syringes outside of China and assert that the proposed increase would impact the supply of enteral syringes, which are necessary for vulnerable patients. These comments request that enteral syringes be excluded.

Considering the comments and the advice of Section 301 Committee, and recognizing that syringes and needles are critical to U.S. preparedness in responding to public health emergencies and the need to maintain alternative sources, consistent with the President's direction, the U.S. Trade Representative has determined to increase tariffs on syringes and needles under the two subheadings to 100 percent in 2024. To address the possible shortages of enteral syringes, the U.S. Trade Representative has determined to exclude enteral syringes through January 1, 2026.

USTR's Response to Significant Comments on Machinery Exclusion Process

The President directed the U.S. Trade Representative to establish a process by which interested persons may request that particular machinery used in domestic manufacturing classified within a subheading under Chapters 84 and 85 of the HTSUS be temporarily excluded from section 301 tariffs, and to prioritize, in particular, exclusions for certain solar manufacturing. In response to the President's direction, the U.S. Trade Representative proposed 312 subheadings eligible for consideration of temporary exclusion, and proposed 19 temporary exclusions for solar manufacturing equipment.

Chapters 84 and 85 of the HTSUS cover most machinery used in manufacturing processes. The 312 subheadings proposed, include machines used to physically alter a good in the manufacturing process. The limited scope of the exclusion process strikes a balance between mitigating U.S. companies' costs in expanding domestic production capacity while maintaining the appropriate amount of leverage with China to encourage China to eliminate the acts, policies, and practices that are the subject of the investigation.

In response to USTR's request for comments on whether the 312 subheadings proposed should or should not be eligible in the machinery exclusion process and whether certain subheading under Chapters 84 and 85 that cover machinery used in domestic manufacturing were omitted and should be included, USTR received more than 650 comments, with approximately half of the comments proposing additional subheadings under Chapters 84 and 85. The remaining comments either opposed including certain subheadings, supported proposed subheadings, or proposed subheadings not under Chapters 84 and 85.

Considering the comments, and the advice of the Section 301 Committee, and consistent with the direction of the President, the U.S. Trade Representative has determined to add five additional subheadings to be eligible for consideration of temporary exclusions. These five subheadings are: 8421.21.00 (Machinery and apparatus for filtering or purifying water); 8421.29.00 (Filtering or purifying machinery and apparatus for liquids, nesoi); 8421.39.01 (Filtering or purifying machinery and apparatus for gases, other than intake air filters or catalytic conv. for internal combustion engines); 8428.70.00 (Industrial robots); and 8443.19.30 (Printing machinery, nesoi). These subheadings appear to include machinery used to physically alter goods in the manufacturing process.

Consistent with the President's direction, the U.S. Trade Representative has determined not to add subheadings outside of Chapters 84 and 85 or subheadings that only include parts, accessories, consumables, or general equipment that is unable to physically change a good. Additionally, the U.S. Trade Representative has determined not to remove any of the proposed subheadings. Comments requesting that subheadings be removed generally assert that machines covered by the subheading were available from sources outside of China. Under the exclusion process, commenters both supporting and opposing particular exclusions for machines under any of these subheadings will have an opportunity to provide their views. This will provide USTR with greater opportunity to gather more specific information about the machinery requested for exclusion, including the availability of products outside of China.

Nineteen Proposed Solar Manufacturing Equipment Exclusions

The President directed the U.S. Trade Representative to prioritize exclusions for certain solar manufacturing equipment. In response to the President's direction, the U.S. Trade Representative proposed 19 exclusions covering solar manufacturing equipment. The exclusions included five exclusions for equipment to manufacture solar modules, six exclusions for equipment to manufacture solar cells, and eight exclusions for equipment to manufacture solar wafers.

USTR received several comments requesting that the exclusions for solar manufacturing equipment be made effective prior to May 28, 2024. USTR received a number of comments opposing the exclusions based on the assertion that certain equipment is available from alternative sources. Specifically, with respect to the five exclusions for solar module manufacturing equipment and the six exclusions for solar cell manufacturing equipment, a number of comments assert that alternative sources for the machinery are available, both domestically and in Europe. Several comments noted that excluding Chinese equipment would disincentivize companies to purchase from alternative sources and negatively impact burgeoning supply chains. Comments supporting the exclusions focus primarily on Chinese equipment being low-cost equipment, but some also assert that China is the only source for most solar equipment.

Considering the public comments, the specific direction of the President to prioritize exclusions for solar equipment, and the advice of the Section 301 Committee, particularly agencies involved in efforts to build capacity for domestic production of solar products, the U.S. Trade Representative has determined not to adopt the five exclusions covering solar manufacturing equipment for modules. Available information indicates that there is sufficient availability of the products covered by the exclusions outside of China, such that the exclusions are not warranted and could harm alternative sourcing currently available.

Regarding proposals to temporarily exclude wafer and cell manufacturing equipment, the U.S. Trade Representative has determined to adopt the 14 exclusions for this manufacturing equipment. There is limited information regarding the availability and pricing of the cell manufacturing equipment covered by these exclusions outside of China, but some of the risks of granting the exclusions are mitigated by the short prospective duration of the exclusions. The exclusion period will allow for the development of strategies to reduce U.S. reliance on Chinese cell manufacturing equipment, and for greater supply chain resilience and enhanced domestic manufacturing more generally. Regarding the wafer manufacturing equipment, available information indicates that alternative sources do not currently have sufficient supply of the equipment covered by these exclusions. Regarding requests for a longer retroactive period for the exclusions for solar manufacturing equipment, the U.S. Trade Representative has determined to make the exclusions effective January 1, 2024, and through May 31, 2025. The additional time will support those investments in domestic production that were made in 2024, but prior to USTR's announced proposals. With the goal of reducing reliance on China, and to ensure that imports under the exclusions support both greater domestic production of solar products and supply chain resilience, USTR will actively monitor imports under the 14 temporary exclusions. Additionally, based on the public comments, the U.S. Trade Representative has made certain amendments to the proposed product descriptions for the exclusions. The final product descriptions for the adopted exclusions are included in Annex B of this notice.

The U.S. Trade Representative will continue to consider the actions taken in this investigation. In the event that further modifications are appropriate, the U.S. Trade Representative intends to take into account the extensive public comments provided in response to the May 28 notice.

Juan Millan,
Acting General Counsel, Office of the United States Trade Representative.

Annex A—Tariff Increases

HTSUS subheading | Product description | Rate (%) | Timing
Battery Parts (Non-lithium-ion Batteries)
8507.90.40 | Parts of lead-acid storage batteries, including separators therefor | 25 | 2024
Electric Vehicles
8702.40.31 | Motor vehicles w/electric motor, to transport 16 or more persons, incl driver | 100 | 2024
8702.40.61 | Motor vehicles w/electric motor, to transport 10 to 15 persons, incl driver | 100 | 2024
8702.90.31 | Motor vehicles nesoi, to transport 16 or more persons, incl driver | 100 | 2024
8702.90.61 | Motor vehicles nesoi, to transport 10 to 15 persons, incl driver | 100 | 2024
8703.60.00 | Motor vehicles to transport persons, w/spark-ign. IC recip. piston engine & elec motor capable of charge by plug to external source | 100 | 2024
8703.70.00 | Motor vehicles to transport persons, w/diesel engine & elec motor capable of charge by plug to external source | 100 | 2024
8703.80.00 | Motor vehicles to transport persons, w/electric motor for propulsion | 100 | 2024
8703.90.01 | Motor vehicles to transport persons, nesoi | 100 | 2024
Facemasks
6307.90.9842 | Surgical N95 Respirators of Textile | 25 50 | 2024 2026
6307.90.9844 | Non-surgical N95 Respirators of Textiles | 25 50 | 2024 2026
6307.90.9850 | Respirators of Textiles, Other than N95 | 25 50 | 2024 2026
6307.90.9870 | Face Masks of Textiles, Disposable | 25 50 | 2025 2026
6307.90.9875 | Face Masks of Textiles, Other than Disposable | 25 50 | 2024 2026
Lithium-ion Electrical Vehicle Batteries
8507.60.0010 | Lithium-ion batteries of a kind used as the primary source of electrical power for electrically powered vehicles of subheadings 8703.40, 8703.50, 8703.60, 8703.70 or 8703.80 | 25 | 2024
Lithium-ion Non-electrical Vehicle Batteries
8507.60.0020 | Lithium-ion batteries: Other | 25 | 2026
Medical Gloves
4015.12.10 | Medical or surgical gloves of vulcanized rubber other than hard rubber | 50 100 | 2025 2026
Natural Graphite
2504.10.10 | Natural graphite, crystalline flake (not including flake dust) | 25 | 2026
2504.10.50 | Natural graphite in powder or flakes (other than crystalline flake) | 25 | 2026
2504.90.00 | Natural graphite, other than in powder or in flakes | 25 | 2026
Other Critical Minerals
2602.00.00 | Manganese ores and concentrates including ferruginous manganese ores & concentrates with manganese content over 20% calculated on dry weight | 25 | 2024
2605.00.00 | Cobalt ores and concentrates | 25 | 2024
2606.00.00 | Aluminum ores and concentrates | 25 | 2024
2608.00.00 | Zinc ores and concentrates | 25 | 2024
2610.00.00 | Chromium ores and concentrates | 25 | 2024
2611.00.60 | Tungsten concentrates | 25 | 2024
2825.90.30 | Tungsten oxides | 25 | 2024
2841.80.00 | Tungstates (wolframates) | 25 | 2024
2844.41.00 | Tritium and its compounds, alloys, dispersions, ceramic products and mixtures thereof | 25 | 2024
2844.42.00 | Actinium, californium, curium, einsteinium, gadolinium, polonium, radium, uranium & their compounds, alloys, dispersions, ceramic products & mixtures | 25 | 2024
2844.43.00 | Other radioactive elements, isotopes, compounds, nesoi; alloys, dispersions, ceramic products and mixtures thereof | 25 | 2024
2844.44.00 | Radioactive residues | 25 | 2024
2849.90.30 | Tungsten carbide | 25 | 2024
7202.60.00 | Ferronickel | 25 | 2024
7202.93.40 | Ferroniobium containing by weight less than 0.02 percent of phosphorus or sulfur or less than 0.4 percent of silicon | 25 | 2024
7202.93.80 | Ferroniobium, nesoi | 25 | 2024
7901.11.00 | Zinc (o/than alloy), unwrought, containing o/99.99% by weight of zinc | 25 | 2024
7901.12.10 | Zinc (o/than alloy), unwrought, casting-grade zinc, containing at least 97.5% but less than 99.99% by weight of zinc | 25 | 2024
7901.12.50 | Zinc (o/than alloy), unwrought, o/than casting-grade zinc, containing at least 97.5% but less than 99.99% by wt. of zinc | 25 | 2024
7901.20.00 | Zinc alloy, unwrought | 25 | 2024
8001.10.00 | Tin (o/than alloy), unwrought | 25 | 2024
8001.20.00 | Tin alloy, unwrought | 25 | 2024
8101.10.00 | Tungsten, powders | 25 | 2024
8103.20.00 | Tantalum, unwrought (including bars and rods obtained simply by sintering); tantalum powders | 25 | 2024
8112.21.00 | Chromium, unwrought; chromium powders | 25 | 2024
8112.92.30 | Indium, unwrought; indium powders | 25 | 2024
Permanent Magnets
8505.11.00 | Permanent magnets and articles intended to become permanent magnets after magnetization, of metal | 25 | 2026
Semiconductors
8541.10.00 | Diodes, other than photosensitive or light-emitting diodes | 50 | 2025
8541.21.00 | Transistors, other than photosensitive transistors, with a dissipation rating of less than 1 W | 50 | 2025
8541.29.00 | Transistors, other than photosensitive transistors, with a dissipation rating of 1 W or more | 50 | 2025
8541.30.00 | Thyristors, diacs and triacs, other than photosensitive devices | 50 | 2025
8541.49.10 | Other photosensitive semiconductor diodes, other than light-emitting | 50 | 2025
8541.49.70 | Photosensitive transistors | 50 | 2025
8541.49.80 | Photosensitive semiconductor devices nesoi, optical coupled isolators | 50 | 2025
8541.49.95 | Other photosensitive semiconductor devices, other than diodes or transistors, nesoi | 50 | 2025
8541.51.00 | Other semiconductor-based transducers, other than photosensitive transducers | 50 | 2025
8541.59.00 | Other semiconductor devices, other than semiconductor-based transducers, other than photosensitive devices, nesoi | 50 | 2025
8541.90.00 | Parts of diodes, transistors, similar semiconductor devices, photosensitive semiconductor devices, LED's and mounted piezoelectric crystals | 50 | 2025
8542.31.00 | Electronic integrated circuits: processors and controllers | 50 | 2025
8542.32.00 | Electronic integrated circuits: memories | 50 | 2025
8542.33.00 | Electronic integrated circuits: amplifiers | 50 | 2025
8542.39.00 | Electronic integrated circuits: other | 50 | 2025
8542.90.00 | Parts of electronic integrated circuits and microassemblies | 50 | 2025
Ship-to-Shore Cranes
| Ship-to-shore gantry cranes, configured as a high- or low-profile steel superstructure and designed to unload intermodal containers from vessels with coupling devices for containers, including spreaders or twist-locks (provided for in subheading 8426.19.00), except for such cranes provided for in subheading 8426.19.00, that are fulfilling in whole or in part an executed contract for sale dated prior to May 14, 2024, for goods that are entered for consumption, or withdrawn from warehouse for consumption, in the United States prior to May 14, 2026 | 25 | 2024
Solar Cells (whether or not assembled into modules)
8541.42.00 | Photovoltaic cells, not assembled in modules or made up into panels | 50 | 2024
8541.43.00 | Photovoltaic cells assembled in modules or made up into panels | 50 | 2024
Steel and Aluminum Products
7206.10.00 | Iron and nonalloy steel ingots | 25 | 2024
7206.90.00 | Iron and nonalloy steel in primary forms (o/than ingots) | 25 | 2024
7207.11.00 | Iron or nonalloy steel semifinished products, w/less than 0.25% carbon, w/rect. cross sect.(incl. sq.), w/width less than twice thickness | 25 | 2024
7207.12.00 | Iron or nonalloy steel semifinished products, w/less than 0.25% carbon, w/rect. cross sect. (exclud. sq.), nesoi | 25 | 2024
7207.19.00 | Iron or nonalloy steel semifinished products, w/less than 0.25% carbon, o/than w/rect. cross section | 25 | 2024
7207.20.00 | Iron or nonalloy steel semifinished products, w/0.25% or more of carbon | 25 | 2024
7208.10.15 | Iron/nonalloy steel, width 600mm+, hot-rolled flat-rolled products, w/patterns in relief, in coils, pickled, not clad/plated/coated | 25 | 2024
7208.10.30 | Iron/nonalloy steel, width 600mm+, hot-rolled flat-rolled product, in coil, w/pattern in relief, w/thick 4.75mm+, not pickld, not clad/plated/coatd | 25 | 2024
7208.10.60 | Iron/nonalloy steel, width 600mm+, hot-rolled flat-rolled product, in coil, w/pattern in relief, w/thick <4.75mm, not pickld, not clad/plated/coatd | 25 | 2024
7208.25.30 | Nonalloy hi-strength steel, width 600mm+, hot-rolled flat-rolled products, in coils, w/thick 4.75mm+, pickled, not clad/plated/coated | 25 | 2024
7208.25.60 | Iron/nonalloy steel, width 600mm+, hot-rolled flat-rolled products, in coils, w/thick 4.7mm or more, pickled, not clad/plated/coated | 25 | 2024
7208.26.00 | Iron/nonalloy steel, width 600mm+, hot-rolled flat-rolled products, in coils, w/thick 3mm or mor but less 4.75mm, pickled, not clad/plated | 25 | 2024
7208.27.00 | Iron/nonalloy steel, width 600mm+, hot-rolled flat-rolled products, in coils, w/thick less than 3mm, pickled, not clad/plated/coated | 25 | 2024
7208.36.00 | Iron/nonalloy steel, width 600mm+, hot-rolled flat-rolled products, in coils, w/thick o/10mm, not pickled/clad/plated/coated | 25 | 2024
7208.37.00 | Iron/nonalloy steel, width 600mm+, hot-rolled flat-rolled products, in coils, w/thick 4.75mm or more & n/o 10mm, not pickled/clad/plated | 25 | 2024
7208.38.00 | Iron/nonalloy steel, width 600mm+, hot-rolled flat-rolled products, in coils, w/thick 3mm or more & less 4.75mm, not pickld/clad/plated | 25 | 2024
7208.39.00 | Iron/nonalloy steel, width 600mm+, hot-rolled flat-rolled products, in coils, w/thick less than 3mm, not pickled/clad/plated/coated | 25 | 2024
7208.40.30 | Iron/nonalloy steel, width 600mm+, hot-rolled flat-rolled products, w/pattern in relief, not coils, w/thick 4.75 or more, n/clad/plated/coated | 25 | 2024
7208.40.60 | Iron/nonalloy steel, width 600mm+, hot-rolled flat-rolled products, w/pattern in relief, not coils, w/thick <4.75mm, not clad/plated/coated | 25 | 2024
7208.51.00 | Iron/nonalloy steel, width 600mm+, hot-rolled flat-rolled products, nesoi, not in coils, w/thick o/10mm, not clad/plated/coated | 25 | 2024
7208.52.00 | Iron/nonalloy steel, width 600mm+, hot-rolled flat-rolled products, neosi, not in coils, w/thick 4.75mm+ but n/o 10mm, not clad/plated/ | 25 | 2024
7208.53.00 | Iron/nonalloy steel, width 600mm+, hot-rolled flat-rolled products, neosi, not in coils, w/thick 3mm+ but <4.75mm, not clad/plated/coated | 25 | 2024
7208.54.00 | Iron/nonalloy steel, width 600mm+, hot-rolled flat-rolled products, neosi, not in coils, w/thick less than 3mm, not clad/plated/coated | 25 | 2024
7208.90.00 | Iron/nonalloy steel, width 600mm+, hot-rolled flat-rolled products, nesoi, not clad/plated/coated | 25 | 2024
7209.15.00 | Iron/nonalloy steel, width 600mm+, cold-rolled flat-rolled products, in coils, w/thick 3mm+, not clad/plated/coated | 25 | 2024
7209.16.00 | Iron/nonalloy steel, width 600mm+, cold-rolled flat-rolled products, in coils, w/thick o/1mm but less than 3mm, not clad/plated/coated | 25 | 2024
7209.17.00 | Iron/nonalloy steel, width 600mm+, cold-rolled flat-rolled products, in coils, w/thick 0.5mm or more but n/o 1mm, not clad/plated/coated | 25 | 2024
7209.18.15 | Nonalloy hi-strength steel, width 600mm+, cold-rolled flat-rolled products, in coils, w/thick less than 0.5mm, not clad/plated/coated | 25 | 2024
7209.18.25 | Nonalloy steel(blackplate), width 600mm+, cold-rolled flat-rolled products, in coils, w/thick less than 0.361mm, not clad/plated/coated | 25 | 2024
7209.18.60 | Iron/nonalloy steel, width 600mm+, cold-rolled flat-rolled products, in coils, w/thick 0.361mm+ but less 5mm, not clad/plated/coated | 25 | 2024
7209.25.00 | Iron/nonalloy steel, width 600mm+, cold-rolled flat-rolled products, not in coils, w/thick 3mm or more, not clad/plated/coated | 25 | 2024
7209.26.00 | Iron/nonalloy steel, width 600mm+, cold-rolled flat-rolled products, not in coils, w/thick o/1mm but less than 3mm, not clad/plated/coated | 25 | 2024
7209.27.00 | Iron/nonalloy steel, width 600mm+, cold-rolled flat-rolled products, not in coils, w/thick 0.5mm+ but n/o 1mm, not clad/plated/coated | 25 | 2024
7209.28.00 | Iron/nonalloy steel, width 600mm+, cold-rolled flat-rolled products, not in coils, w/thick less than 0.5mm, not clad/plated/coated | 25 | 2024
7209.90.00 | Iron/nonalloy steel, width 600mm+, flat-rolled products further worked than cold-rolled, not clad/plated/coated, nesoi | 25 | 2024
7210.11.00 | Iron/nonalloy steel, width 600mm+, flat-rolled products, plated or coated with tin, w/thick. 0.5 mm or more | 25 | 2024
7210.12.00 | Iron/nonalloy steel, width 600mm+, flat-rolled products, plated or coated with tin, less than 0.5 mm thick | 25 | 2024
7210.20.00 | Iron/nonalloy steel, width 600mm+, flat-rolled products, plated or coated with lead, including terneplate | 25 | 2024
7210.30.00 | Iron/nonalloy steel, width 600mm+, flat-rolled products, electrolytically plated or coated with zinc | 25 | 2024
7210.41.00 | Iron/nonalloy steel, width 600mm+, flat-rolled products, plated or coated with zinc (other than electrolytically), corrugated | 25 | 2024
7210.49.00 | Iron/nonalloy steel, width 600mm+, flat-rolled products, plated or coated with zinc (other than electrolytically), not corrugated | 25 | 2024
7210.50.00 | Iron/nonalloy steel, width 600mm+, flat-rolled products, plated or coated with chromium oxides or with chromium and chromium oxides | 25 | 2024
7210.61.00 | Iron/nonalloy steel, width 600mm+, flat-rolled products, plated or coated with aluminum-zinc alloys | 25 | 2024
7210.69.00 | Iron/nonalloy steel, width 600mm+, flat-rolled products, plated or coated with aluminum o/than aluminum-zinc alloy | 25 | 2024
7210.70.30 | Iron/nonalloy steel, width 600mm+, flat-rolled products, painted/varnished or coated w/plastic but not plated/coated or clad w/metal | 25 | 2024
7210.70.60 | Iron/nonalloy steel, width 600mm+, flat-rolled products, painted/varnished or coated w/plastic, nesoi | 25 | 2024
7210.90.10 | Iron/nonalloy steel, width 600mm+, flat-rolled products, clad | 25 | 2024
7210.90.60 | Iron/nonalloy steel, width 600mm+, flat-rolled products, electrolytically coated or plated with base metal, nesoi | 25 | 2024
7210.90.90 | Iron/nonalloy steel, width 600mm+, flat-rolled products, plated or coated, nesoi | 25 | 2024
7211.13.00 | Iron/nonalloy steel, width less th/600mm, hot-rolled flat-rolled universal mill plate, not clad/plated/coated | 25 | 2024
7211.14.00 | Iron/nonalloy steel, width less th/600mm, hot-rolled flat-rolled products, nesoi, w/thick of 4.75mm or more, not clad/plated/coated | 25 | 2024
7211.19.15 | Nonalloy hi-strength steel, width less th/300mm, hot-rolled flat-rolled products, not clad/plated/coated | 25 | 2024
7211.19.20 | Iron/nonalloy steel, neosi, width less th/300mm, hot-rolled flat-rolled products, w/thick o/1.25 mm but n/o 4.75 mm, n/clad/plated/coated | 25 | 2024
7211.19.30 | Iron/nonalloy steel, neosi, width less th/300mm, hot-rolled flat-rolled products, w/thick 1.25mm or less, not clad/plated/coated | 25 | 2024
7211.19.45 | Nonalloy hi-strength steel, width 300mm+ but less th/600mm, hot-rolled flat-rolled products, not clad/plated/coated | 25 | 2024
7211.19.60 | Iron/nonalloy steel, neosi, width 300mm+ but less th/600mm, hot-rolled flat-rolled products, pickled, not clad/plated/coated | 25 | 2024
7211.19.75 | Iron/nonalloy steel, neosi, width 300mm+ but less th/600mm, hot-rolled flat-rolled products, not pickled, not clad/plated/coated | 25 | 2024
7211.23.15 | Nonalloy hi-strength steel, width less th/300mm, cold-rolled flat-rolled, <0.25% carbon, w/thick o/1.25mm, not clad/plated/coated | 25 | 2024
7211.23.20 | Iron/nonalloy steel, nesoi, width less th/300mm, cold-rolled flat-rolled, <0.25% carbon, w/thick o/1.25mm, not clad/plated/coated | 25 | 2024
7211.23.30 | Iron/nonalloy steel, nesoi, width less th/300mm, cold-rolled flat-rolled, <0.25% carbon, w/thick o/0.25mm n/o 1.25mm, not clad/plated | 25 | 2024
7211.23.45 | Iron/nonalloy steel, nesoi, width less th/300mm, cold-rolled flat-rolled, <0.25% carbon, w/thick n/o 0.25mm, not clad/plated/coated | 25 | 2024
7211.23.60 | Iron/nonalloy steel, nesoi, width 300mm+ but less th/600mm, cold-rolled flat-rolled, <0.25% carbon, not clad/plated/coated | 25 | 2024
7211.29.20 | Iron/nonalloy steel, width less th/300mm, cold-rolled flat-rolled, w/0.25% or more carbon, w/thick o/0.25mm, not clad/plated/coated | 25 | 2024
7211.29.45 | Iron/nonalloy steel, width less th/300mm, cold-rolled flat-rolled, w/0.25% or more carbon, w/thick 0.25mm or less, not clad/plated/coated | 25 | 2024
7211.29.60 | Iron/nonalloy steel, width 300mm+ but less th/600mm, cold-rolled flat-rolled, w/0.25% or more carbon, not clad/plated/coated | 25 | 2024
7211.90.00 | Iron/nonalloy steel, width less th/600mm, flat-rolled further worked than cold-rolled, not clad, plated or coated | 25 | 2024
7212.10.00 | Iron/nonalloy steel, width less th/600mm, flat-rolled products, plated or coated with tin | 25 | 2024
7212.20.00 | Iron/nonalloy steel, width less th/600mm, flat-rolled products, electrolytically plated or coated with zinc | 25 | 2024
7212.30.10 | Iron/nonalloy steel, width less th/300mm, flat-rolled products, plated/coated with zinc (other than electrolytically), w/thick o/0.25 mm | 25 | 2024
7212.30.30 | Iron/nonalloy steel, width less th/300mm, flat-rolled products, plated/coated w/zinc (other than electrolytically), w/thick 0.25 mm or less | 25 | 2024
7212.30.50 | Iron/nonalloy steel, width 300+ but less th/600mm, flat-rolled products, plated or coated with zinc (other than electrolytically) | 25 | 2024
7212.40.10 | Iron/nonalloy steel, width less th/300mm, flat-rolled products, painted, varnished or coated w/plastic | 25 | 2024
7212.40.50 | Iron/nonalloy steel, width 300+ but less th/600mm, flat-rolled products, painted, varnished or coated w/plastic | 25 | 2024
7212.50.00 | Iron/nonalloy steel, width less th/600mm, flat-rolled products, plated or coated nesoi | 25 | 2024
7212.60.00 | Iron/nonalloy steel, width less th/600mm, flat-rolled products, clad | 25 | 2024
7213.10.00 | Iron/nonalloy, concrete reinforcing bars and rods in irregularly wound coils, hot-rolled | 25 | 2024
7213.20.00 | Free-cutting steel, bars and rods in irregularly wound coils, hot-rolled | 25 | 2024
7213.91.30 | Iron/nonalloy steel, nesoi, hot-rolled bars & rods in irregularly wound coils, w/cir. x-sect. diam. <14mm, n/tempered/treated/partly mfd | 25 | 2024
7213.91.45 | Iron/nonalloy steel, nesoi, hot-rolled bars & rods in irregularly wound coils, w/cir. x-sect. diam. <14mm, w/0.6+ of carbon, nesoi | 25 | 2024
7213.91.60 | Iron/nonalloy steel, nesoi, hot-rolled bars & rods in irregularly wound coils, w/cir. x-sect. diam. <14mm, w/less th/0.6 carbon, nesoi | 25 | 2024
7213.99.00 | Iron/nonalloy steel, nesoi, hot-rolled bars & rods, w/cir. x-sect. diam 14+mm or non-circ. x-sect., in irregularly wound coils, nesoi | 25 | 2024
7214.20.00 | Iron/nonalloy steel, concrete reinforcing bars and rods, not further worked than hot-rolled, hot-drawn or hot-extruded, n/coils | 25 | 2024
7214.30.00 | Free-cutting steel, bars and rods, not further worked than hot-rolled, hot-drawn or hot-extruded, n/coils, nesoi | 25 | 2024
7214.91.00 | Iron/nonalloy steel, bars and rods, not further worked than hot-rolled, hot-drawn or hot-extruded, w/rectangular (o/than square) X-section | 25 | 2024
7214.99.00 | Iron/nonalloy steel, bars and rods, not further worked than hot-rolled, hot-drawn or hot-extruded, w/non-rectangular X-sect, not in coils | 25 | 2024
7215.10.00 | Free-cutting steel, bars and rods, not further worked than cold-formed or cold-finished, not in coils | 25 | 2024
7215.50.00 | Iron/nonalloy steel nesoi, bars and rods, not further wkd. than cold-formed or cold-finished, not in coils | 25 | 2024
7215.90.10 | Iron/nonalloy steel, bars and rods, not cold-formed, plated or coated with metal | 25 | 2024
7215.90.30 | Iron/nonalloy steel, bars and rods, cold-formed, plated or coated with metal | 25 | 2024
7215.90.50 | Iron/nonalloy steel, bars and rods, further worked than cold-formed or cold-finished, nesoi | 25 | 2024
7216.10.00 | Iron/nonalloy steel, U, I or H-sections, not further worked than hot-rolled, hot-drawn or extruded, w/height under 80 mm | 25 | 2024
7216.21.00 | Iron/nonalloy steel, L-sections, not further worked than hot-rolled, hot-drawn or extruded, w/height under 80 mm | 25 | 2024
7216.22.00 | Iron/nonalloy steel, T-sections, not further worked than hot-rolled, hot-drawn or extruded, w/height under 80 mm | 25 | 2024
7216.31.00 | Iron/nonalloy steel, U-sections, not further worked than hot-rolled, hot-drawn or extruded, w/height of 80 mm or more | 25 | 2024
7216.32.00 | Iron/nonalloy steel, I-sections (standard beams), not further worked than hot-rolled, hot-drawn or extruded, w/height 80 mm or more | 25 | 2024
7216.33.00 | Iron/nonalloy steel, H-sections, not further worked than hot-rolled, hot-drawn or extruded, w/height 80 mm or more | 25 | 2024
7216.40.00 | Iron/nonalloy steel, L or T-sections, not further worked than hot-rolled, hot-drawn or extruded, w/height 80 mm or more | 25 | 2024
7216.50.00 | Iron/nonalloy steel, angles, shapes & sections nesoi, not further worked than hot-rolled, hot-drawn or extruded | 25 | 2024
7216.99.00 | Iron/nonalloy steel, angles, shapes & sections nesoi, further wkd. than cold-formed or cold-finished and not from flat-rolled products | 25 | 2024
7217.10.10 | Iron/nonalloy steel, flat wire, <0.25% carbon, not plated or coated, w/thick n/o 0.25 mm | 25 | 2024
7217.10.20 | Iron/nonalloy steel, flat wire, <0.25% carbon, not plated or coated, w/thick o/0.25mm but n/o 1.25 mm | 25 | 2024
7217.10.30 | Iron/nonalloy steel, flat wire, <0.25% carbon, not plated or coated, w/thick o/1.25 mm | 25 | 2024
7217.10.50 | Iron/nonalloy steel, round wire, <0.25% carbon, not plated or coated, w/diameter of 1.5 mm or more | 25 | 2024
7217.10.60 | Iron/nonalloy steel, wire (other than flat or round), <0.25% carbon, not plated or coated | 25 | 2024
7217.10.70 | Iron/nonalloy steel, flat wire, w/0.25% or more carbon, not plated or coated | 25 | 2024
7217.10.80 | Iron/nonalloy steel, round wire, w/0.25% or more carbon, not plated or coated | 25 | 2024
7217.10.90 | Iron/nonalloy steel, wire (other than flat or round), w/0.25% or more of carbon, not plated or coated | 25 | 2024
7217.20.15 | Iron/nonalloy steel, flat wire, plated or coated with zinc | 25 | 2024
7217.20.30 | Iron/nonalloy steel, round wire, <0.25% carbon, plated or coated with zinc, w/diameter of 1.5 mm or more | 25 | 2024
7217.20.45 | Iron/nonalloy steel, round wire, w/0.25% or more carbon and/or <1.5mm diam, plated or coated with zinc | 25 | 2024
7217.20.60 | Iron/nonalloy steel, wire (other than flat or round), <0.25% carbon, plated or coated with zinc | 25 | 2024
7217.20.75 | Iron/nonalloy steel, wire (other than flat or round), w/0.25% or more of carbon, plated or coated with zinc | 25 | 2024
7217.30.15 | Iron/nonalloy steel, flat wire, plated or coated with base metal other than zinc | 25 | 2024
7217.30.30 | Iron/nonalloy steel, round wire, <0.25% carbon, plated or coated with base metal other than zinc, w/diam. of 1.5 mm or more | 25 | 2024
7217.30.60 | Iron/nonalloy steel, wire (other than flat or round), <0.25% carbon, plated or coated with base metal other than zinc | 25 | 2024
7217.30.75 | Iron/nonalloy steel, wire (other than flat or round), w/0.25% or more of carbon, plated or coated with base metal other than zinc | 25 | 2024
7217.90.10 | Iron/nonalloy steel, wire, coated with plastics | 25 | 2024
7217.90.50 | Iron/nonalloy steel, wire, plated or coated with materials other than base metals or plastics | 25 | 2024
7218.10.00 | Stainless steel, ingots and other primary forms | 25 | 2024
7218.91.00 | Stainless steel, semifinished products of rectangular (other than square) cross-section | 25 | 2024
7218.99.00 | Stainless steel, semifinished products, other than of rectangular (other than square) cross-section | 25 | 2024
7219.11.00 | Stainless steel, width 600mm+, hot-rolled flat-rolled products, in coils, w/thickness o/10 mm | 25 | 2024
7219.12.00 | Stainless steel, width 600mm+, hot-rolled flat-rolled products, in coils, w/thick. 4.75 mm or more but n/o 10 mm | 25 | 2024
7219.13.00 | Stainless steel, width 600mm+, hot-rolled flat-rolled products, in coils, w/thick. 3 mm or more but less than 4.75 mm | 25 | 2024
7219.14.00 | Stainless steel, width 600mm+, hot-rolled flat-rolled products, in coils, w/thickness less than 3 mm | 25 | 2024
7219.21.00 | Stainless steel, width 600mm+, hot-rolled flat-rolled products, not in coils, w/thickness o/10 mm | 25 | 2024
7219.22.00 | Stainless steel, width 600mm+, hot-rolled flat-rolled products, not in coils, w/thick. 4.75 mm or more but n/o 10 mm | 25 | 2024
7219.23.00 | Stainless steel, width 600mm+, hot-rolled flat-rolled products, not in coils, w/thick. 3 mm or more but less than 4.75 mm | 25 | 2024
7219.24.00 | Stainless steel, width 600mm+, hot-rolled flat-rolled products, not in coils, w/thickness less than 3 mm | 25 | 2024
7219.31.00 | Stainless steel, width 600mm+, cold-rolled flat-rolled products, w/thickness of 4.75 mm or more | 25 | 2024
7219.32.00 | Stainless steel, width 600mm+, cold-rolled flat-rolled products, w/thickness of 3 mm or more but less than 4.75 mm | 25 | 2024
7219.33.00 | Stainless steel, width 600mm+, cold-rolled flat-rolled products, w/thickness o/1 mm but less than 3 mm | 25 | 2024
7219.34.00 | Stainless steel, width 600mm+, cold-rolled flat-rolled products, w/thickness of 0.5 mm or more but n/o 1 mm | 25 | 2024
7219.35.00 | Stainless steel, width 600mm+, cold-rolled flat-rolled products, w/thickness of less than 0.5 mm | 25 | 2024
7219.90.00 | Stainless steel, width 600mm+, flat-rolled products, nesoi, further worked than cold-rolled | 25 | 2024
7220.12.10 | Stainless steel, width 300m+ but less th/600mm, hot-rolled flat-rolled products, w/thickness of less than 4.75 mm | 25 | 2024
7220.12.50 | Stainless steel, width less th/300mm, hot-rolled flat-rolled products, w/thickness of less than 4.75 mm | 25 | 2024
7220.20.10 | Stainless steel, width 300+ but less th/600mm, cold-rolled flat-rolled products | 25 | 2024
7220.20.60 | Stainless steel, width less th/300mm, cold-rolled flat-rolled products, w/thickness o/1.25 mm | 25 | 2024
7220.20.70 | Stainless steel, width less th/300mm, cold-rolled flat-rolled products, w/thickness of 0.25 mm but n/o 1.25 mm | 25 | 2024
7220.20.80 | Stainless razor blade steel, width less th/300mm, cold-rolled flat-rolled, w/thickness n/o 0.25 mm | 25 | 2024
7220.90.00 | Stainless steel, width less th/600mm, flat-rolled products further worked than cold-rolled | 25 | 2024
7221.00.00 | Stainless steel, bars and rods in irregularly wound coils, hot-rolled | 25 | 2024
7222.11.00 | Stainless steel, bars and rods, hot-rolled, hot-drawn or extruded, of circular cross-section | 25 | 2024
7222.19.00 | Stainless steel, bars and rods, hot-rolled, hot-drawn or extruded, other than of circular cross-section | 25 | 2024
7222.20.00 | Stainless steel, bars and rods, not further worked than cold-formed or cold-finished, nesoi | 25 | 2024
7222.30.00 | Stainless steel, bars and rods, further worked than cold-formed or cold-finished, nesoi | 25 | 2024
7222.40.30 | Stainless steel, angles, shapes & sections, hot-rolled, not drilled/punched or otherwise advanced | 25 | 2024
7222.40.60 | Stainless steel, angles, shapes & sections, other than hot-rolled and not drilled/punched or otherwise advanced | 25 | 2024
7223.00.10 | Stainless steel, round wire | 25 | 2024
7223.00.50 | Stainless steel, flat wire | 25 | 2024
7223.00.90 | Stainless steel, wire (other than round or flat wire) | 25 | 2024
7224.10.00 | Alloy (o/than stainless) steel, ingots and other primary forms | 25 | 2024
7224.90.00 | Alloy (o/than stainless) steel, semifinished products | 25 | 2024
7225.11.00 | Alloy silicon electrical steel (grain-oriented), width 600mm+, flat-rolled products | 25 | 2024
7225.19.00 | Alloy silicon electrical steel (other than grain-oriented), width 600mm+, flat-rolled products | 25 | 2024
7225.30.11 | Alloy tool steel, width 600mm+, hot-rolled flat-rolled products, in coils, w/thick. of 4.75 mm or more | 25 | 2024
7225.30.30 | Alloy (o/th stainless, silicon elect., hi-speed, or tool) steel, width 600mm+, hot-rolled flat-rolled products, in coils, w/thick 4.75mm+ | 25 | 2024
7225.30.51 | Alloy tool steel, width 600mm+, hot-rolled flat-rolled products, in coils, w/thick. of less than 4.75 mm | 25 | 2024
7225.30.70 | Alloy (o/th stainless, silicon elect., hi-speed, or tool) steel, width 600mm+, hot-rolled flat-rolled prod., in coils, w/thick less 4.75mm | 25 | 2024
7225.40.11 | Alloy tool steel, width 600mm+, hot-rolled flat-rolled products, n/coils, w/thick. of 4.75 mm or more | 25 | 2024
7225.40.30 | Alloy (o/th stainless, silicon elect., hi-speed, or tool) steel, width 600mm+, hot-rolled flat-rolled products, n/coils, w/thick 4.75mm+ | 25 | 2024
7225.40.51 | Alloy tool steel, width 600mm+, hot-rolled flat-rolled products, n/coils, w/thick. of less than 4.75 mm | 25 | 2024
7225.40.70 | Alloy (o/th stainless, silicon elect., hi-speed, or tool) steel, width 600mm+, hot-rolled flat-rolled prod., n/coils, w/thick less 4.75mm | 25 | 2024
7225.50.11 | Alloy tool steel, width 600mm+, cold-rolled flat-rolled products | 25 | 2024
7225.50.60 | Alloy steel (o/than tool), width 600mm+, cold-rolled flat-rolled products, w/thickness 4.75 mm or more | 25 | 2024
7225.50.70 | Alloy heat-resisting steel, width 600mm+, cold-rolled flat-rolled products, w/thickness less than 4.75 mm | 25 | 2024
7225.50.80 | Alloy steel (o/th heat-resisting), width 600mm+, cold-rolled flat-rolled products, w/thickness less than 4.75 mm | 25 | 2024
7225.91.00 | Alloy steel, width 600mm+, flat-rolled products further worked than cold-rolled, electrolytically plated or coated with zinc | 25 | 2024
7225.92.00 | Alloy steel, width 600mm+, flat-rolled products further worked than cold-rolled, plated or coated with zinc (o/than electrolytically) | 25 | 2024
7225.99.00 | Alloy steel, width 600mm+, flat-rolled products further worked than cold-rolled, nesoi | 25 | 2024
7226.11.10 | Alloy silicon electrical steel (grain-oriented), width 300mm+ but less th/600mm, flat-rolled products | 25 | 2024
7226.11.90 | Alloy silicon electrical steel (grain-oriented), width less th/300mm, flat-rolled products | 25 | 2024
7226.19.10 | Alloy silicon electrical steel (o/than grain-oriented), width 300mm+ but less th/600mm, flat-rolled products | 25 | 2024
7226.19.90 | Alloy silicon electrical steel (o/than grain-oriented), width less th/300mm, flat-rolled products | 25 | 2024
7226.20.00 | Alloy high-speed steel, width less th/600mm, flat-rolled products of high-speed steel | 25 | 2024
7226.91.05 | Alloy chipper knife tool steel (o/than hi-speed), width less th/600mm, hot-rolled flat-rolled products | 25 | 2024
7226.91.15 | Alloy tool steel (o/than hi-speed/chipper knife), width 300mm+ but less th/600mm, hot-rolled flat-rolled products | 25 | 2024
7226.91.25 | Alloy tool steel (o/than hi-speed/chipper knife), width less th/300mm, hot-rolled flat-rolled products | 25 | 2024
7226.91.50 | Alloy steel (o/than silicon elect./tool), width less th/600mm, hot-rolled flat-rolled products, w/thickness of 4.75 mm or more | 25 | 2024
7226.91.70 | Alloy steel (o/than silicon elect./tool), width 300mm+ but less th/600mm, hot-rolled flat-rolled products, w/thickness less than 4.75 mm | 25 | 2024
7226.91.80 | Alloy steel (o/than silicon elect./tool), width less th/300mm, hot-rolled flat-rolled products, w/thickness less than 4.75 mm | 25 | 2024
7226.92.10 | Alloy tool steel (o/than hi-speed), width 300mm+ but less th/600mm, cold-rolled flat-rolled products | 25 | 2024
7226.92.30 | Alloy tool steel (o/than hi-speed), width less th/300mm, cold-rolled flat-rolled products | 25 | 2024
7226.92.50 | Alloy steel (o/than tool), width 300mm+ but less th/600mm, cold-rolled flat-rolled products | 25 | 2024
7226.92.70 | Alloy steel (o/than tool), width less th/300mm, cold-rolled flat-rolled products, w/thickness n/o 0.25 mm | 25 | 2024
7226.92.80 | Alloy steel (o/than tool), width less th/300mm, cold-rolled flat-rolled products, w/thickness o/0.25 mm | 25 | 2024
7226.99.01 | Alloy steel, width less than 600mm, flat-rolled products further worked than cold-rolled, nesoi | 25 | 2024
7227.10.00 | Alloy high-speed steel, bars and rods in irregularly wound coils, hot-rolled | 25 | 2024
7227.20.00 | Alloy silico-manganese steel, bars and rods in irregularly wound coils, hot-rolled | 25 | 2024
7227.90.10 | Alloy tool steel (o/than hi-speed), bars & rods in irregular wound coils, hot-rolled, n/tempered, treated or partly manufactured | 25 | 2024
7227.90.20 | Alloy tool steel (o/than hi-speed), bars and rods in irregularly wound coils, hot-rolled, nesoi | 25 | 2024
7227.90.60 | Alloy steel (o/than hi-speed/silico-mang./tool) steel, bars and rods in irregularly wound coils, hot-rolled | 25 | 2024
7228.20.10 | Alloy silico-manganese steel, bars and rods, not cold-formed, o/than hot-rolled and in irregularly wound coils | 25 | 2024
7228.20.50 | Alloy silico-manganese steel, bars and rods, cold formed, o/than hot-rolled and in irregularly wound coils | 25 | 2024
7228.30.40 | Alloy chipper knife tool steel, bars and rods, not cold-formed & not further worked than hot-rolled, hot-drawn or extruded | 25 | 2024
7228.30.60 | Alloy tool steel (o/than ball-bearing/chipper knife), bars and rods, not further worked than hot-rolled, hot-drawn or extruded | 25 | 2024
7228.30.80 | Alloy steel (o/than hi-speed, silico-mang./tool), bars and rods, not further worked than hot-rolled, hot-drawn or extruded | 25 | 2024
7228.40.00 | Alloy steel, bars and rods, not further worked than forged | 25 | 2024
7228.50.10 | Alloy tool steel (o/than hi-speed), bars and rods, not further worked than cold-formed or cold-finished | 25 | 2024
7228.50.50 | Alloy steel (o/than tool), bars and rods, not further worked than cold-formed or cold-finished | 25 | 2024
7228.60.10 | Alloy tool steel (o/than hi-speed), bars and rods, further worked than hot-rolled, forged, cold-formed or cold-finished | 25 | 2024
7228.60.60 | Alloy steel (o/than tool), bars and rods, further worked than hot-rolled, forged but not cold-formed | 25 | 2024
7228.60.80 | Alloy steel (o/than tool), bars and rods, cold-formed | 25 | 2024
7228.70.30 | Alloy steel, angles, shapes and sections, hot-rolled & not drilled/not punched and not otherwise advanced | 25 | 2024
7228.70.60 | Alloy steel, angles, shapes and sections, o/than hot-rolled & not drilled/punced and not otherwise advanced | 25 | 2024
7229.20.00 | Alloy silico-manganese steel, wire | 25 | 2024
7229.90.10 | Alloy steel (o/than hi-speed/silico-mang.), flat wire | 25 | 2024
7229.90.50 | Alloy steel (o/than hi-speed/silico-mang.), round wire | 25 | 2024
7229.90.90 | Alloy steel (o/than hi-speed/silico-mang.), wire (o/than flat or round wire) | 25 | 2024
7301.10.00 | Iron or steel sheet piling, whether or not drilled, punched or made from assembled elements | 25 | 2024
7302.10.10 | Iron or nonalloy steel, rails for railway or tramway tracks | 25 | 2024
7302.10.50 | Alloy steel, rails for railway or tramway tracks | 25 | 2024
7302.40.00 | Iron or steel, fish plates and sole plates for jointing or fixing rails | 25 | 2024
7302.90.10 | Sleepers (cross-ties) for railway or tramway track construction of iron or steel | 25 | 2024
7302.90.90 | Railway or tramway track construction material and other materials specialized for jointing or fixing rails, of iron or steel, nesoi | 25 | 2024
7304.11.00 | Stainless steel, seamless line pipe used for oil or gas pipelines | 25 | 2024
7304.19.10 | Iron (o/than cast) or nonalloy steel, seamless line pipe used for oil and gas pipelines | 25 | 2024
7304.19.50 | Alloy (other than stainless) steel, seamless line pipe used for oil or gas pipelines | 25 | 2024
7304.22.00 | Stainless steel, seamless drill pipe, of a kind used in drilling for oil or gas | 25 | 2024
7304.23.30 | Iron (o/than cast) or nonalloy steel, seamless drill pipe, of a kind used in drilling for oil or gas | 25 | 2024
7304.23.60 | Alloy (other than stainless) steel, seamless drill pipe, of a kind used in drilling for oil or gas | 25 | 2024
7304.24.30 | Stainless steel, seamless casing pipe, threaded or coupled, of a kind used in drilling for oil or gas | 25 | 2024
7304.24.40 | Stainless steel, seamless casing pipe, not threaded or coupled, of a kind used in drilling for oil or gas | 25 | 2024
7304.24.60 | Stainless steel, seamless tubing, of a kind used in drilling for oil or gas | 25 | 2024
7304.29.10 | Iron (o/than cast) or nonalloy steel, seamless casing pipe, threaded or coupled, of a kind used in drilling for oil or gas | 25 | 2024
7304.29.20 | Iron (o/than cast) or nonalloy steel, seamless casing pipe, not threaded or coupled, of a kind used in drilling for oil or gas | 25 | 2024
7304.29.31 | Alloy (other than stainless) steel, seamless casing pipe, threaded or coupled, of a kind used in drilling for oil or gas | 25 | 2024
7304.29.41 | Alloy (other than stainless) steel, seamless casing pipe, not threaded or coupled, of a kind used in drilling for oil or gas | 25 | 2024
7304.29.50 | Iron (o/than cast) or nonalloy, seamless tubing, of a kind used in drilling for oil or gas | 25 | 2024
7304.29.61 | Alloy (other than stainless) steel, seamless tubing, of a kind used in drilling for oil or gas | 25 | 2024
7304.31.30 | Iron (o/than cast) or nonalloy steel, seamless, cold-drawn or cold-rolled, hollow bars w/circular cross section | 25 | 2024
7304.31.60 | Iron (o/than cast) or nonalloy steel, seamless, cold-drawn or cold-rolled, tubes, pipes & hollow profiles, w/circular cross section, nesoi | 25 | 2024
7304.39.00 | Iron (o/than cast) or nonalloy steel, seamless, not cold-drawn or cold-rolled, tubes, pipes and hollow prof., w/circular cross sect., nesoi | 25 | 2024
7304.49.00 | Stainless steel, seamless, not cold-drawn/cold-rolled, tubes, pipes and hollow profiles, w/circular cross section | 25 | 2024
7304.51.10 | Alloy steel (o/than stainless), seamless, cold-drawn/cold-rolled, tubes, pipes, etc., w/circ. cross sect., for mfr of ball/roller bearings | 25 | 2024
7304.51.50 | Alloy steel (o/than stainless), seamless, cold-drawn/cold-rolled, tubes, pipes and hollow profiles, w/circular cross section, nesoi | 25 | 2024
7304.59.10 | Alloy steel (o/than stainless), seamless, n/cold-drawn/cold-rolled, tubes, pipes, etc. w/circ. cross sect., for mfr ball/roller bearings | 25 | 2024
7304.59.20 | Alloy steel (o/than stainless), seamless, n/cold-drawn/cold-rolled, tubes, pipes, etc. w/circ. cross sect., for boilers, heaters, etc | 25 | 2024
7304.59.60 | Heat-resisting alloy steel (o/than stainless), seamless, n/cold-drawn/cold-rolled, tubes, pipes, etc., w/circ. cross sect., nesoi | 25 | 2024
7304.59.80 | Alloy steel (o/than heat-resist or stainless), seamless, n/cold-drawn/cold-rolled, tubes, pipes and hollow prof., w/circ. cross sect., nesoi | 25 | 2024
7304.90.10 | Iron (o/than cast) or nonalloy steel, seamless, tubes, pipes and hollow profiles, o/than circ. cross sect., w/wall thickness of 4 mm or more | 25 | 2024
7304.90.70 | Alloy steel (o/than stainless), seamless, tubes, pipes and hollow profiles, o/than circ. cross sect., w/wall thickness less than 4 mm | 25 | 2024
7305.11.10 | Iron or nonalloy steel, seamed, w/circ. cross sect. & ext. diam o/406.4mm, line pipe, long. submerg. arc weld., used for oil/gas | 25 | 2024
7305.11.50 | Alloy steel, seamed, circ. w/cross sect. & ext. diam o/406.4mm, line pipe, long. submerg. arc weld., used for oil/gas pipelines | 25 | 2024
7305.12.10 | Iron or nonalloy steel, seamed, w/circ. cross sect. & ext. diam o/406.4mm, line pipe, long. welded nesoi, used for oil/gas | 25 | 2024
7305.12.50 | Alloy steel, seamed, w/circ. cross sect. & ext. diam o/406.4mm, line pipe, long. welded nesoi, used for oil/gas pipelines | 25 | 2024
7305.19.10 | Iron or nonalloy steel, seamed, w/circ. cross sect.& ext. diam o/406.4mm, line pipe, not long. welded, used for oil/gas | 25 | 2024
7305.19.50 | Alloy steel, seamed, w/circ. cross sect. & ext. diam o/406.4mm, line pipe, not long. welded, used for oil/gas pipelines | 25 | 2024
7305.20.20 | Iron or nonalloy steel, seamed, w/circ. cross sect. & ext. diam. o/406.4mm, casing pipe, threaded/coupled, of kind for drilling for oil/gas | 25 | 2024
7305.20.40 | Iron or nonalloy steel, seamed, w/circ. cross sect. & ext. diam. o/406.4mm, casing pipe, n/threaded/coupled, of kind for drill. for oil/gas | 25 | 2024
7305.20.60 | Alloy steel, seamed, w/circ. cross sect. & ext. diam. o/406.4mm, casing pipe, threaded/coupled, of kind for drilling for oil/gas | 25 | 2024
7305.20.80 | Alloy steel, seamed, w/circ. cross sect. & ext. diam. o/406.4mm, casing pipe, n/threaded/coupled, of kind for drilling for oil/gas | 25 | 2024
7305.31.20 | Steel, long. welded, w/circ. cross sect & ext. diam o/406.4mm, tapered pipes and tubes principally used as pts of illuminating arts | 25 | 2024
7305.31.40 | Iron or nonalloy steel, long. welded, w/circ. cross sect. & ext. diam. o/406.4mm, tubes and pipes, o/th used in oil/gas drill.etc | 25 | 2024
7305.31.60 | Alloy steel, long. welded, w/circ. cross sect. & ext. diam. o/406.4mm, tubes and pipes, o/than used in oil/gas drill. or pipelines | 25 | 2024
7305.39.10 | Iron or nonalloy steel, weld. o/than long. weld., w/circ. x-sect. & ext. diam. o/406.4mm, tubes and pipes, o/th used in oil/gas drill.etc | 25 | 2024
7305.39.50 | Alloy steel, weld. o/than long. weld., w/circ. x-sect. & ext. diam. o/406.4mm, tubes and pipes, o/than used in oil/gas drill. or pipelines | 25 | 2024
7305.90.10 | Iron or nonalloy steel, seamed, w/circ. cross sect. & ext. diam. o/406.4mm, not welded, tubes and pipes, o/th used in oil/gas drill.etc | 25 | 2024
7305.90.50 | Alloy steel, seamed, w/circ. cross sect. & ext. diam. o/406.4mm, not welded, tubes and pipes, o/than used in oil/gas drill. or pipelines | 25 | 2024
7306.11.00 | Welded stainless steel, w/ext. diam 406.4mm or less or o/than circ. x-sect, line pipe of a kind used for oil and gas pipelines | 25 | 2024
7306.19.10 | Iron or nonalloy steel, seamed, w/ext. diam. 406.4mm or less or o/than circ. x-sect, line pipe of a kind used for oil and gas pipelines | 25 | 2024
7306.19.51 | Alloy steel, seamed (o/than welded stainless steel), w/ext. diam 406.4mm or less or o/than circ. x-sect, line pipe of a kind used for oil an | 25 | 2024
7306.21.30 | Welded stainless steel, w/ext. diam 406.4mm or less or o/than circ. x-sect, threaded/coupled, casing of kind used in drilling for oil/gas | 25 | 2024
7306.21.40 | Welded stainless steel, w/ext. diam 406.4mm or less or o/than circ. x-sect, n/threaded/coupled, casing of kind used in drilling for oil/gas | 25 | 2024
7306.21.80 | Welded stainless steel, w/ext. diam 406.4mm or less or o/than circ. x-sect, tubing of a kind used for drilling for oil/gas | 25 | 2024
7306.29.10 | Iron or nonalloy steel, seamed, w/ext. diam 406.4mm or less or o/than circ. x-sect, threaded/coupled, casing of kind used in drill. oil/gas | 25 | 2024
7306.29.20 | Iron or nonalloy steel, seamed, w/ext. diam 406.4mm or less or o/than circ. x-sect, n/threaded/coupled, casing kind used drill for oil/gas | 25 | 2024
7306.29.31 | Alloy steel, seamed (o/than welded stainless steel), w/ext. diam 406.4mm or less or o/than circ. x-sect, threaded/coupled, casing of kind us | 25 | 2024
7306.29.41 | Alloy steel, seamed (o/than welded stainless steel), w/ext. diam 406.4mm or less or o/than circ. x-sect, n/threaded/coupled, casing of kind | 25 | 2024
7306.29.60 | Iron or nonalloy steel, seamed, w/ext. diam. 406.4mm or less or o/than circ. x-sect, tubing of a kind used for drilling for oil/gas | 25 | 2024
7306.29.81 | Alloy steel, seamed (o/than welded stainless steel), w/ext. diam 406.4mm or less or o/than circ. x-sect, tubing of a kind used for drilling | 25 | 2024
7306.30.10 | Iron or nonalloy steel, welded, w/circ. x-sect & ext. diam. 406.4mm or less, tubes, pipes, hollow profiles, w/wall thick. less than 1.65 mm | 25 | 2024
7306.30.30 | Nonalloy steel, welded, w/circ. x-sect & ext. diam. 406.4mm or less, tapered pipes & tubes, w/wall thick. of 1.65 mm+, pts. of illum. arts. | 25 | 2024
7306.30.50 | Iron or nonalloy steel, welded, w/circ. x-sect & ext. diam. 406.4mm or less, pipes, tubes & holl. prof., w/wall thick. of 1.65 mm or more | 25 | 2024
7306.40.10 | Stainless steel, welded, w/circ. x-sect & ext. diam. 406.4mm or less, tubes, pipes, hollow profiles, w/wall thick. less than 1.65 mm | 25 | 2024
7306.40.50 | Stainless steel, welded, w/circ. x-sect & ext. diam. 406.4mm or less, tubes, pipes, hollow profiles, w/wall thick. of 1.65 mm or more | 25 | 2024
7306.50.10 | Alloy steel (o/stainless), welded, w/circ. x-sect & ext. diam. 406.4mm or less, tubes, pipes, hollow prof., w/wall thick. less th/1.65 mm | 25 | 2024
7306.50.30 | Alloy steel (o/stainless), welded, w/circ. x-sect & ext. diam. 406.4mm or less, tapered pipes & tubes, w/wall thick. of 1.65 mm+, pts. illum | 25 | 2024
7306.50.50 | Alloy steel (o/stainless), welded, w/circ. x-sect & ext. diam. 406.4mm or less, tubes, pipes, hollow prof., w/wall thick. of 1.65 mm+ | 25 | 2024
7306.61.10 | Iron or nonalloy steel, welded, w/square or rectangular x-sect, tubes, pipes and hollow profiles, w/wall thickness of 4 mm or more | 25 | 2024
7306.61.30 | Alloy steel, welded, w/square or rectangular x-sect, tubes, pipes and hollow profiles, w/wall thickness of 4 mm or more | 25 | 2024
7306.61.50 | Iron or nonalloy steel, welded, w/square or rectangular x-sect, tubes, pipes and hollow profiles, w/wall thickness less than 4 mm | 25 | 2024
7306.61.70 | Alloy steel, welded, w/square or rectangular x-sect, tubes, pipes and hollow profiles, w/wall thickness less than 4 mm | 25 | 2024
7306.69.10 | Iron or nonalloy steel, welded, w/other non-circ. x-sect, tubes, pipes and hollow profiles, w/wall thickness of 4 mm or more | 25 | 2024
7306.69.30 | Alloy steel, welded, w/other non-circ. x-sect, tubes, pipes and hollow profiles, w/wall thickness of 4 mm or more | 25 | 2024
7306.69.70 | Alloy steel, welded, w/other non-circ. x-sect, tubes, pipes and hollow profiles, w/wall thickness less than 4 mm | 25 | 2024
7306.90.10 | Iron or nonalloy steel, seamed o/welded, w/non-circ. x-sect. or circ. x-sect. w/ext. diam. 406.4mm or less, tubes, pipes & hollow profiles | 25 | 2024
7306.90.50 | Alloy steel, seamed o/than welded, w/non-circ. x-sect or circ. x-sect w/ext. diam. 406.4mm or less, tubes, pipes and hollow profiles | 25 | 2024
7601.10.30 | Aluminum (o/than alloy), unwrought, in coils, w/uniform x-section throughout length & w/least cross-sectional dimension n/o 9.5 mm | 25 | 2024
7601.10.60 | Aluminum (o/than alloy), unwrought nesoi | 25 | 2024
7601.20.30 | Aluminum alloys, unwrought, in coils, w/uniform x-section throughout length & w/least cross-sectional dimension n/o 9.5 mm | 25 | 2024
7601.20.60 | Aluminum alloys, w/25 or more by weight of silicon, unwrought nesoi | 25 | 2024
7601.20.90 | Aluminum alloys nesoi, unwrought nesoi | 25 | 2024
7604.10.10 | Aluminum (o/than alloy), profiles | 25 | 2024
7604.10.30 | Aluminum (o/than alloy), bar and rods, with a round cross section | 25 | 2024
7604.10.50 | Aluminum (o/than alloy), bar and rods, other than with a round cross section | 25 | 2024
7604.21.00 | Aluminum alloy, hollow profiles | 25 | 2024
7604.29.10 | Aluminum alloy, profiles (o/than hollow profiles) | 25 | 2024
7604.29.30 | Aluminum alloy, bars and rods, having a round cross section | 25 | 2024
7604.29.50 | Aluminum alloy, bars and rods, other than with a round cross section | 25 | 2024
7605.11.00 | Aluminum (o/than alloy), wire, with a maximum cross-sectional dimension over 7 mm | 25 | 2024
7605.19.00 | Aluminum (o/than alloy), wire, with a maximum cross-sectional dimension of 7 mm or less | 25 | 2024
7605.21.00 | Aluminum alloy, wire, with a maximum cross-sectional dimension over 7 mm | 25 | 2024
7605.29.00 | Aluminum alloy, wire, with a maximum cross-sectional dimension of 7 mm or less | 25 | 2024
7606.11.30 | Aluminum (o/than alloy), plates/sheets/strip, w/thick. o/0.2mm, rectangular (incl. sq), not clad | 25 | 2024
7606.11.60 | Aluminum (o/than alloy), plates/sheets/strip, w/thick. o/0.2mm, rectangular (incl. sq), clad | 25 | 2024
7606.12.30 | Aluminum alloy, plates/sheets/strip, w/thick. o/0.2mm, rectangular (incl. sq), not clad | 25 | 2024
7606.12.60 | Aluminum alloy, plates/sheets/strip, w/thick. o/0.2mm, rectangular (incl. sq), clad | 25 | 2024
7606.91.30 | Aluminum (o/than alloy), plates/sheets/strip, w/thick. o/0.2mm, o/than rectangular (incl. sq), not clad | 25 | 2024
7606.91.60 | Aluminum (o/than alloy), plates/sheets/strip, w/thick. o/0.2mm, o/than rectangular (incl. sq), clad | 25 | 2024
7606.92.30 | Aluminum alloy, plates/sheets/st rip, w/thick. o/0.2mm, o/than rectangular (incl. sq), not clad | 25 | 2024
7606.92.60 | Aluminum alloy, plates/sheets/strip, w/thick. o/0.2mm, o/than rectangular (incl. sq), clad | 25 | 2024
7607.11.30 | Aluminum, foil, w/thickness n/o 0.01 mm, rolled but not further worked, not backed | 25 | 2024
7607.11.60 | Aluminum, foil, w/thickness over 0.01 mm but n/o 0.15 mm, rolled but not further worked, not backed | 25 | 2024
7607.11.90 | Aluminum, foil, w/thickness over 0.15 mm but n/o 0.2 mm, rolled but not further worked, not backed | 25 | 2024
7607.19.60 | Aluminum, foil nesoi, w/thickness o/0.15mm but n/o 0.2 mm or 0.15mm or less & not cut to shape, not rolled, not backed, nesoi | 25 | 2024
7607.20.10 | Aluminum, foil, w/thickness n/o 0.2 mm, backed, covered or decorated with a character, design, fancy effect or pattern | 25 | 2024
7608.10.00 | Aluminum (o/than alloy), tubes and pipes | 25 | 2024
7608.20.00 | Aluminum alloy, tubes and pipes | 25 | 2024
7609.00.00 | Aluminum, fittings for tubes and pipes | 25 | 2024
Syringes and Needles
9018.31.00 | Syringes, with or without their needles; parts and accessories thereof; except enteral syringes provided for in heading 9903.91.10, entered before January 1, 2026 (described in statistical reporting number 9018.31.0080) | 100 | 2024
9018.32.00 | Tubular metal needles and needles for sutures, used in medical, surgical, dental or veterinary sciences, and parts and accessories thereof | 100 | 2024

Annex B—Exclusions for Solar Manufacturing Equipment

Exclusion Product Description
Silicon growth furnaces, including Czochralski crystal growth furnaces, designed for growing monocrystalline silicon ingots (boules) of a mass exceeding 700 kg, for use in solar wafer manufacturing (described in statistical reporting number 8486.10.0000).
Band saws designed for cutting or slicing cylindrical monocrystalline silicon ingots (boules) of an initial mass exceeding 400 kg into square or rectangular ingots (boules), for use in solar wafer manufacturing (described in statistical reporting number 8486.10.0000).
Machines designed to align and adhere square or rectangular monocrystalline silicon ingots (boules) of an initial mass exceeding 200 kg to plastic support boards on metal mounting plates to provide support during diamond wire sawing, for use in solar wafer manufacturing (described in statistical reporting number 8486.10.0000).
Diamond wire saws designed for cutting or slicing square or rectangular monocrystalline silicon ingots (boules) of an initial mass exceeding 400 kg into solar wafers of a thickness not exceeding 200 micrometers (described in statistical reporting number 8486.10.0000).
Wire guide roller machines, presented with diamond wire saws designed for slicing square or rectangular monocrystalline silicon ingots (boules) of an initial mass exceeding 400 kg into solar wafers of a thickness not exceeding 200 micrometers, all of the foregoing for use in solar wafer manufacturing (described in statistical reporting number 8486.10.0000).
Coolant fluid recycling machines, presented with diamond wire saws designed for slicing square or rectangular monocrystalline silicon ingots (boules) of an initial mass exceeding 400 kg into solar wafers of a thickness not exceeding 200 micrometers, all of the foregoing for use in solar wafer manufacturing (described in statistical reporting number 8486.10.0000).
Degumming machines designed to remove adhesives from solar wafers (described in statistical reporting number 8486.10.0000).
Texturing, etching, polishing, and cleaning machines designed to prepare, repair, clean, etch, polish or texture the solar wafer substrate, whether or not integrated with automation equipment for transferring solar wafers from one process station to the next, all the foregoing for use in solar wafer manufacturing (described in statistical reporting number 8486.20.0000).
Thermal diffusion quartz-tube furnaces, designed to diffuse dopant impurities into square or rectangular silicon wafers, whether or not integrated with automation equipment for transferring solar wafers from one process station to the next or boat loading or unloading machines, all the foregoing for use in solar cell manufacturing (described in statistical reporting number 8486.20.0000).
Plasma-enhanced or low-pressure chemical vapor deposition machines designed to deposit amorphous or nanocrystalline layers on one or both surfaces of a solar wafer, whether or not integrated with automation equipment for transferring solar wafers from one process station to the next, all the foregoing for use in solar cell manufacturing (described in statistical reporting number 8486.20.0000).
Physical vapor deposition (PVD) machines, designed to deposit a thin film of transparent conducting oxide on one or both surfaces of a solar wafer, whether or not integrated with automation equipment for transferring solar wafers from one process station to the next, all the foregoing for use in solar cell manufacturing (described in statistical reporting number 8486.20.0000).
Screen printing line machines, including sintering furnaces for printing conducting contacts on both surfaces of a solar wafer, whether or not integrated with automation equipment for transferring solar wafers from one process station to the next, and whether or not integrated with equipment for solar cell testing, all the foregoing for use in solar cell manufacturing (described in statistical reporting number 8486.20.0000).
Machines designed for transporting polysilicon material to growth furnaces and machines designed for transporting monocrystalline ingots (boules) and wafers throughout the solar wafer manufacturing process, including machines for loading or unloading solar wafers during the diamond wire slicing process (described in statistical reporting number 8486.40.0030).
Machines designed for lifting, handling, loading, or unloading of solar wafers of a thickness not exceeding 200 micrometers, for use in solar wafer manufacturing (described in statistical reporting number 8486.40.0030).

Annex C—Changes to Harmonized Tariff Schedule of the United States

1. Effective with respect to goods entered for consumption, or withdrawn from warehouse for consumption, on or after 12:01 a.m. eastern daylight time on September 27, 2024, subchapter III of chapter 99 of the Harmonized Tariff Schedule of the United States (HTSUS) is modified by inserting the following new headings 9903.91.01, 9903.91.02 and 9903.91.03 in numerical sequence, with the material in the new headings inserted in the columns of the HTSUS labeled “Heading/Subheading”, “Article Description”, “Rates of Duty 1—General”, “Rates of Duty 1—Special” and “Rates of Duty 2”, respectively:

Heading/ subheading | Article description | Rates of duty: 1: General | Rates of duty: 1: Special | Rates of duty: 2
“9903.91.01 | Effective with respect to entries on or after September 27, 2024, articles the product of China, as provided for in subdivision (b) of U.S. note 31 to this subchapter | The duty provided in the applicable subheading + 25%
9903.91.02 | Effective with respect to entries on or after September 27, 2024, articles the product of China, as provided for in subdivision (c) of U.S. note 31 to this subchapter | The duty provided in the applicable subheading + 50%
9903.91.03 | Except as provided in heading 9903.91.10, effective with respect to entries on or after September 27, 2024, articles the product of China, as provided for in subdivision (d) of U.S. note 31 to this subchapter | The duty provided in the applicable subheading + 100%”

2. Effective with respect to goods entered for consumption, or withdrawn from warehouse for consumption, on or after 12:01 a.m. eastern standard time on January 1, 2025, subchapter III of chapter 99 of the HTSUS is modified by inserting the following new headings 9903.91.04 and 9903.91.05 in numerical sequence, with the material in the new heading inserted in the columns of the HTSUS labeled “Heading/Subheading”, “Article Description”, “Rates of Duty 1—General”, “Rates of Duty 1—Special” and “Rates of Duty 2”, respectively:

Heading/ subheading | Article description | Rates of duty: 1: General | Rates of duty: 1: Special | Rates of duty: 2
“9903.91.04 | Effective with respect to entries on or after January 1, 2025, and before January 1, 2026, articles the product of China, as provided for in subdivision (e) of U.S. note 31 to this subchapter | The duty provided in the applicable subheading + 25%
9903.91.05 | Effective with respect to entries on or after January 1, 2025, articles the product of China, as provided for in subdivision (f) of U.S. note 31 to this subchapter | The duty provided in the applicable subheading + 50%”

3. Effective with respect to goods entered for consumption, or withdrawn from warehouse for consumption, on or after 12:01 a.m. eastern standard time on January 1, 2026, subchapter III of chapter 99 of the HTSUS is modified by inserting the following new headings 9903.91.06, 9903.91.07, and 9903.91.08 in numerical sequence, with the material in the new heading inserted in the columns of the HTSUS labeled “Heading/Subheading”, “Article Description”, “Rates of Duty 1—General”, “Rates of Duty 1—Special” and “Rates of Duty 2”, respectively:

Heading/ subheading | Article description | Rates of duty: 1: General | Rates of duty: 1: Special | Rates of duty: 2
“9903.91.06 | Effective with respect to entries on or after January 1, 2026, articles the product of China, as provided for in subdivision (g) of U.S. note 31 to this subchapter | The duty provided in the applicable subheading + 25%
9903.91.07 | Effective with respect to entries on or after January 1, 2026, articles the product of China, as provided for in subdivision (h) of U.S. note 31 to this subchapter | The duty provided in the applicable subheading + 50%
9903.91.08 | Effective with respect to entries on or after January 1, 2026, articles the product of China, as provided for in subdivision (i) of U.S. note 31 to this subchapter

4. Effective on September 27, 2024, subchapter III of chapter 99 of the HTSUS is modified by inserting the following new U.S. note 31 in numerical sequence:

“31. (a) As provided in headings 9903.91.01, 9903.91.02, 9903.91.03, 9903.91.04, 9903.91.05, 9903.91.06, 9903.91.07 and 9903.91.08 and subheading 9903.92.10, products of China shall be subject to additional ad valorem rates of duty, as provided for in this note. The products of China that are subject to additional ad valorem rates of duty in accordance with this note are products of China that are classified in the subheadings, or described in the statistical reporting numbers, enumerated in this note.

“Notwithstanding U.S. note 1 to this subchapter, all products of China that are subject to the additional ad valorem rate of duty imposed by headings 9903.91.01, 9903.91.02, 9903.91.03, 9903.91.04, 9903.91.05, 9903.91.06, 9903.91.07 and 9903.91.08 and subheading 9903.92.10, shall also be subject to the general rates of duty imposed on products of China classified in the subheadings, or described in the statistical reporting numbers, enumerated in this note.

“Products of China that are classified in the subheadings, or described in the statistical reporting numbers, enumerated in this note that are eligible for special tariff treatment under general note 3(c)(i) to the HTSUS, or that are eligible for temporary duty exemptions or reductions under subchapter II to chapter 99, shall be subject to the additional ad valorem rate of duty imposed by headings 9903.91.01, 9903.91.02, 9903.91.03, 9903.91.04, 9903.91.05, 9903.91.06, 9903.91.07 and 9903.91.08 and subheading 9903.92.10.

“The additional duties imposed by headings 9903.91.01, 9903.91.02, 9903.91.03, 9903.91.04, 9903.91.05, 9903.91.06, 9903.91.07 and 9903.91.08 and subheading 9903.92.10, do not apply to goods for which entry is properly claimed under a provision of chapter 98 of the HTSUS, except for goods entered under subheadings 9802.00.40, 9802.00.50, and 9802.00.60, and heading 9802.00.80. For subheadings 9802.00.40, 9802.00.50, and 9802.00.60, the additional duties apply to the value of repairs, alterations, or processing performed abroad, as described in the applicable subheading. For heading 9802.00.80, the additional duties apply to the value of the article less the cost or value of such products of the United States, as described in heading 9802.00.80.

“Products of China that are provided for in headings 9903.91.01, 9903.91.02, 9903.91.03, 9903.91.04, 9903.91.05, 9903.91.06, 9903.91.07 and 9903.91.08 and subheading 9903.92.10 and classified in one of the subheadings, or described in the statistical reporting numbers, enumerated in this note shall continue to be subject to antidumping, countervailing, or other duties, fees, exactions and charges that apply to such products, as well as to the additional ad valorem rate of duty imposed by headings 9903.91.01, 9903.91.02, 9903.91.03, 9903.91.04, 9903.91.05, 9903.91.06, 9903.91.07, and 9903.91.08 and subheading 9903.92.10.”

“(b) Heading 9903.91.01 applies to products of China that are classified in the 8-digit subheadings, or described in the 10-digit statistical reporting numbers, enumerated in this subdivision, effective with respect to goods entered for consumption, or withdrawn from warehouse for consumption, on or after 12:01 a.m. eastern daylight time on September 27, 2024:

(1) N95 respirators of textiles, described in statistical reporting numbers 6307.90.9842 or 6307.90.9844

(2) Respirators of textiles, other than N95 respirators, described in statistical reporting number 6307.90.9850

(3) Face masks of textiles, other than disposable, described in statistical reporting number 6307.90.9875

(4) Lithium-ion batteries of a kind used as the primary source of electrical power for electrically powered vehicles of subheadings 8703.40, 8703.50, 8703.60, 8703.70 or 8703.80, described in statistical reporting number 8507.60.0010

(5) 2602.00.00

(6) 2605.00.00

(7) 2606.00.00

(8) 2608.00.00

(9) 2610.00.00

(10) 2611.00.60

(11) 2825.90.30

(12) 2841.80.00

(13) 2844.41.00

(14) 2844.42.00

(15) 2844.43.00

(16) 2844.44.00

(17) 2849.90.30

(18) 7202.60.00

(19) 7202.93.40

(20) 7202.93.80

(21) 7206.10.00

(22) 7206.90.00

(23) 7207.11.00

(24) 7207.12.00

(25) 7207.19.00

(26) 7207.20.00

(27) 7208.10.15

(28) 7208.10.30

(29) 7208.10.60

(30) 7208.25.30

(31) 7208.25.60

(32) 7208.26.00

(33) 7208.27.00

(34) 7208.36.00

(35) 7208.37.00

(36) 7208.38.00

(37) 7208.39.00

(38) 7208.40.30

(39) 7208.40.60

(40) 7208.51.00

(41) 7208.52.00

(42) 7208.53.00

(43) 7208.54.00

(44) 7208.90.00

(45) 7209.15.00

(46) 7209.16.00

(47) 7209.17.00

(48) 7209.18.15

(49) 7209.18.25

(50) 7209.18.60

(51) 7209.25.00

(52) 7209.26.00

(53) 7209.27.00

(54) 7209.28.00

(55) 7209.90.00

(56) 7210.11.00

(57) 7210.12.00

(58) 7210.20.00

(59) 7210.30.00

(60) 7210.41.00

(61) 7210.49.00

(62) 7210.50.00

(63) 7210.61.00

(64) 7210.69.00

(65) 7210.70.30

(66) 7210.70.60

(67) 7210.90.10

(68) 7210.90.60

(69) 7210.90.90

(70) 7211.13.00

(71) 7211.14.00

(72) 7211.19.15

(73) 7211.19.20

(74) 7211.19.30

(75) 7211.19.45

(76) 7211.19.60

(77) 7211.19.75

(78) 7211.23.15

(79) 7211.23.20

(80) 7211.23.30

(81) 7211.23.45

(82) 7211.23.60

(83) 7211.29.20

(84) 7211.29.45

(85) 7211.29.60

(86) 7211.90.00

(87) 7212.10.00

(88) 7212.20.00

(89) 7212.30.10

(90) 7212.30.30

(91) 7212.30.50

(92) 7212.40.10

(93) 7212.40.50

(94) 7212.50.00

(95) 7212.60.00

(96) 7213.10.00

(97) 7213.20.00

(98) 7213.91.30

(99) 7213.91.45

(100) 7213.91.60

(101) 7213.99.00

(102) 7214.20.00

(103) 7214.30.00

(104) 7214.91.00

(105) 7214.99.00

(106) 7215.10.00

(107) 7215.50.00

(108) 7215.90.10

(109) 7215.90.30

(110) 7215.90.50

(111) 7216.10.00

(112) 7216.21.00

(113) 7216.22.00

(114) 7216.31.00

(115) 7216.32.00

(116) 7216.33.00

(117) 7216.40.00

(118) 7216.50.00

(119) 7216.99.00

(120) 7217.10.10

(121) 7217.10.20

(122) 7217.10.30

(123) 7217.10.50

(124) 7217.10.60

(125) 7217.10.70

(126) 7217.10.80

(127) 7217.10.90

(128) 7217.20.15

(129) 7217.20.30

(130) 7217.20.45

(131) 7217.20.60

(132) 7217.20.75

(133) 7217.30.15

(134) 7217.30.30

(135) 7217.30.60

(136) 7217.30.75

(137) 7217.90.10

(138) 7217.90.50

(139) 7218.10.00

(140) 7218.91.00

(141) 7218.99.00

(142) 7219.11.00

(143) 7219.12.00

(144) 7219.13.00

(145) 7219.14.00

(146) 7219.21.00

(147) 7219.22.00

(148) 7219.23.00

(149) 7219.24.00

(150) 7219.31.00

(151) 7219.32.00

(152) 7219.33.00

(153) 7219.34.00

(154) 7219.35.00

(155) 7219.90.00

(156) 7220.12.10

(157) 7220.12.50

(158) 7220.20.10

(159) 7220.20.60

(160) 7220.20.70

(161) 7220.20.80

(162) 7220.90.00

(163) 7221.00.00

(164) 7222.11.00

(165) 7222.19.00

(166) 7222.20.00

(167) 7222.30.00

(168) 7222.40.30

(169) 7222.40.60

(170) 7223.00.10

(171) 7223.00.50

(172) 7223.00.90

(173) 7224.10.00

(174) 7224.90.00

(175) 7225.11.00

(176) 7225.19.00

(177) 7225.30.11

(178) 7225.30.30

(179) 7225.30.51

(180) 7225.30.70

(181) 7225.40.11

(182) 7225.40.30

(183) 7225.40.51

(184) 7225.40.70

(185) 7225.50.11

(186) 7225.50.60

(187) 7225.50.70

(188) 7225.50.80

(189) 7225.91.00

(190) 7225.92.00

(191) 7225.99.00

(192) 7226.11.10

(193) 7226.11.90

(194) 7226.19.10

(195) 7226.19.90

(196) 7226.20.00

(197) 7226.91.05

(198) 7226.91.15

(199) 7226.91.25

(200) 7226.91.50

(201) 7226.91.70

(202) 7226.91.80

(203) 7226.92.10

(204) 7226.92.30

(205) 7226.92.50

(206) 7226.92.70

(207) 7226.92.80

(208) 7226.99.01

(209) 7227.10.00

(210) 7227.20.00

(211) 7227.90.10

(212) 7227.90.20

(213) 7227.90.60

(214) 7228.20.10

(215) 7228.20.50

(216) 7228.30.40

(217) 7228.30.60

(218) 7228.30.80

(219) 7228.40.00

(220) 7228.50.10

(221) 7228.50.50

(222) 7228.60.10

(223) 7228.60.60

(224) 7228.60.80

(225) 7228.70.30

(226) 7228.70.60

(227) 7229.20.00

(228) 7229.90.10

(229) 7229.90.50

(230) 7229.90.90

(231) 7301.10.00

(232) 7302.10.10

(233) 7302.10.50

(234) 7302.40.00

(235) 7302.90.10

(236) 7302.90.90

(237) 7304.11.00

(238) 7304.19.10

(239) 7304.19.50

(240) 7304.22.00

(241) 7304.23.30

(242) 7304.23.60

(243) 7304.24.30

(244) 7304.24.40

(245) 7304.24.60

(246) 7304.29.10

(247) 7304.29.20

(248) 7304.29.31

(249) 7304.29.41

(250) 7304.29.50

(251) 7304.29.61

(252) 7304.31.30

(253) 7304.31.60

(254) 7304.39.00

(255) 7304.49.00

(256) 7304.51.10

(257) 7304.51.50

(258) 7304.59.10

(259) 7304.59.20

(260) 7304.59.60

(261) 7304.59.80

(262) 7304.90.10

(263) 7304.90.70

(264) 7305.11.10

(265) 7305.11.50

(266) 7305.12.10

(267) 7305.12.50

(268) 7305.19.10

(269) 7305.19.50

(270) 7305.20.20

(271) 7305.20.40

(272) 7305.20.60

(273) 7305.20.80

(274) 7305.31.20

(275) 7305.31.40

(276) 7305.31.60

(277) 7305.39.10

(278) 7305.39.50

(279) 7305.90.10

(280) 7305.90.50

(281) 7306.11.00

(282) 7306.19.10

(283) 7306.19.51

(284) 7306.21.30

(285) 7306.21.40

(286) 7306.21.80

(287) 7306.29.10

(288) 7306.29.20

(289) 7306.29.31

(290) 7306.29.41

(291) 7306.29.60

(292) 7306.29.81

(293) 7306.30.10

(294) 7306.30.30

(295) 7306.30.50

(296) 7306.40.10

(297) 7306.40.50

(298) 7306.50.10

(299) 7306.50.30

(300) 7306.50.50

(301) 7306.61.10

(302) 7306.61.30

(303) 7306.61.50

(304) 7306.61.70

(305) 7306.69.10

(306) 7306.69.30

(307) 7306.69.70

(308) 7306.90.10

(309) 7306.90.50

(310) 7601.10.30

(311) 7601.10.60

(312) 7601.20.30

(313) 7601.20.60

(314) 7601.20.90

(315) 7604.10.10

(316) 7604.10.30

(317) 7604.10.50

(318) 7604.21.00

(319) 7604.29.10

(320) 7604.29.30

(321) 7604.29.50

(322) 7605.11.00

(323) 7605.19.00

(324) 7605.21.00

(325) 7605.29.00

(326) 7606.11.30

(327) 7606.11.60

(328) 7606.12.30

(329) 7606.12.60

(330) 7606.91.30

(331) 7606.91.60

(332) 7606.92.30

(333) 7606.92.60

(334) 7607.11.30

(335) 7607.11.60

(336) 7607.11.90

(337) 7607.19.60

(338) 7607.20.10

(339) 7608.10.00

(340) 7608.20.00

(341) 7609.00.00

(342) 7901.11.00

(343) 7901.12.10

(344) 7901.12.50

(345) 7901.20.00

(346) 8001.10.00

(347) 8001.20.00

(348) 8101.10.00

(349) 8103.20.00

(350) 8112.21.00

(351) 8112.92.30

(352) 8507.90.40”.

“(c) Heading 9903.91.02 applies to products of China that are classified in the following 8-digit subheadings, effective with respect to goods entered for consumption, or withdrawn from warehouse for consumption, on or after 12:01 a.m. eastern daylight time on September 27, 2024:

(1) 8541.42.00

(2) 8541.43.00”.

“(d) Heading 9903.91.03 applies to products of China that are classified in the following 8-digit subheadings, effective with respect to goods entered for consumption, or withdrawn from warehouse for consumption, on or after 12:01 a.m. eastern daylight time on September 27, 2024:

(1) 8702.40.31

(2) 8702.40.61

(3) 8702.90.31

(4) 8702.90.61

(5) 8703.60.00

(6) 8703.70.00

(7) 8703.80.00

(8) 8703.90.01

(9) 9018.31.00

(10) 9018.32.00”.

“(e) Heading 9903.91.04 applies to facemasks of textiles, disposable, of China, described in statistical reporting number 6307.90.9870, effective with respect to goods entered for consumption, or withdrawn from warehouse for consumption, on or after 12:01 a.m. eastern standard time on January 1, 2025, and before January 1, 2026.”

“(f) Heading 9903.91.05 applies to products of China that are classified in the following 8-digit subheadings, effective with respect to goods entered for consumption, or withdrawn from warehouse for consumption, on or after 12:01 a.m. eastern standard time on January 1, 2025:

(1) 4015.12.10

(2) 8541.10.00

(3) 8541.21.00

(4) 8541.29.00

(5) 8541.30.00

(6) 8541.49.10

(7) 8541.49.70

(8) 8541.49.80

(9) 8541.49.95

(10) 8541.51.00

(11) 8541.59.00

(12) 8541.90.00

(13) 8542.31.00

(14) 8542.32.00

(15) 8542.33.00

(16) 8542.39.00

(17) 8542.90.00”.

“(g) Heading 9903.91.06 applies to products of China that are classified in the following 8-digit subheadings, effective with respect to goods entered for consumption, or withdrawn from warehouse for consumption, on or after 12:01 a.m. eastern standard time on January 1, 2026:

(1) 2504.10.10

(2) 2504.10.50

(3) 2504.90.00

(4) 8505.11.00

(5) 8507.60.00”.

“(h) Heading 9903.91.07 applies to products of China that are described in the following 10-digit statistical reporting numbers, effective with respect to goods entered for consumption, or withdrawn from warehouse for consumption, on or after 12:01 a.m. eastern standard time on January 1, 2026:

(1) N95 respirators of textiles, described in statistical reporting numbers 6307.90.9842 or 6307.90.9844

(2) Respirators of textiles, other than N95 respirators, described in statistical reporting number 6307.90.9850

(3) Face masks of textiles, described in statistical reporting numbers 6307.90.9870 or 6307.90.9875”.

“(i) Heading 9903.91.08 applies to products of China classified in 8-digit subheading 4015.12.10, effective with respect to goods entered for consumption, or withdrawn from warehouse for consumption, on or after 12:01 a.m. eastern standard time on January 1, 2026.”

5. Effective with respect to goods of China entered for consumption, or withdrawn from warehouse for consumption, on or after 12:01 a.m. eastern daylight time on September 27, 2024, subchapter III of chapter 99 of the HTSUS is modified by inserting the following new heading 9903.92 and new subheadings 9903.92.10 and 9903.92.80 in numerical sequence, with the material in the new headings and subheadings inserted in the columns of the HTSUS labeled “Heading/Subheading”, “Article Description”, “Rates of Duty 1—General”, “Rates of Duty 1—Special” and “Rates of Duty 2”, respectively:

Heading/ subheading | Article description | Rates of duty: 1: General | Rates of duty: 1: Special | Rates of duty: 2
“9903.92 | Effective with respect to entries, on or after September 27, 2024, of overhead traveling cranes, transporter cranes, gantry cranes, bridge cranes and mobile lifting frames, other than overhead traveling cranes on fixed support and other than mobile lifting frames on tires, articles the product of China (provided for in subheading 8426.19.00):
9903.92.10 | Except as provided in heading 9903.91.09, ship-to-shore gantry cranes, configured as a high- or low-profile steel superstructure and designed to unload intermodal containers from vessels with coupling devices for containers, including spreaders or twist-locks (provided for in subheading 8426.19.00) | The duty provided in the applicable subheading + 25%
9903.92.80 | Other (provided for in subheading 8426.19.00 | The duty provided in the applicable subheading”

6. Effective with respect to products of China that are entered for consumption, or withdrawn from warehouse for consumption, on or after 12:01 a.m. eastern daylight time on September 27, 2024, and before May 14, 2026, subchapter III of chapter 99 of the HTSUS is modified by inserting the following new heading 9903.91.09 in numerical sequence, with the material in the new heading inserted in the columns of the HTSUS labeled “Heading/Subheading”, “Article Description”, “Rates of Duty 1—General”, “Rates of Duty 1—Special” and “Rates of Duty 2”, respectively:

Heading/ subheading | Article description | Rates of duty: 1: General | Rates of duty: 1: Special | Rates of duty: 2
“9903.91.09 | Notwithstanding subheading 9903.92.10, effective with respect to entries, on or after September 27, 2024, of ship-to-shore gantry cranes, configured as a high- or low-profile steel superstructure and designed to unload intermodal containers from vessels with coupling devices for containers, including spreaders or twist-locks, articles the product of China (provided for in subheading 8426.19.00), that are fulfilling in whole or in part an executed contract for sale dated prior to May 14, 2024 for goods that are entered for consumption, or withdrawn from warehouse for consumption, in the United States prior to May 14, 2026 | The duty provided in the applicable subheading”

7. Effective with respect to products of China that are entered for consumption, or withdrawn from warehouse for consumption, on or after 12:01 a.m. eastern daylight time on September 27, 2024, and before January 1, 2026, subchapter III of chapter 99 of the HTSUS is modified by inserting the following new heading 9903.91.10 in numerical sequence, with the material in the new heading inserted in the columns of the HTSUS labeled “Heading/Subheading”, “Article Description”, “Rates of Duty 1—General”, “Rates of Duty 1—Special” and “Rates of Duty 2”, respectively:

Heading/ subheading | Article description | Rates of duty: 1: General | Rates of duty: 1: Special | Rates of duty: 2
“9903.91.10 | Notwithstanding heading 9903.91.03, effective with respect to entries of enteral syringes, of China, on or after September 27, 2024, and before January 1, 2026 (described in statistical reporting number 9018.31.0080) | The duty provided in the applicable subheading”

8. Effective with respect to products of China that are entered for consumption, or withdrawn from warehouse for consumption, on or after 12:01 a.m. eastern daylight time on January 1, 2024, and before June 1, 2025, subchapter III of chapter 99 of the HTSUS is modified:

(a) by inserting the following new heading 9903.88.70 in numerical sequence, with the material in the new heading inserted in the columns of the HTSUS labeled “Heading/Subheading”, “Article Description”, “Rates of Duty 1—General”, “Rates of Duty 1—Special” and “Rates of Duty 2”, respectively:

Heading/ subheading | Article description | Rates of duty: 1: General | Rates of duty: 1: Special | Rates of duty: 2
“9903.88.70 | Effective with respect to entries on or after January 1, 2024, and before June 1, 2025, articles the product of China, as provided in U.S. note 20(www) to this subchapter, each covered by an exclusion granted by the U.S. Trade Representative | The duty provided in the applicable subheading”

(b) by inserting the following new U.S. note 20(www) to subchapter III of chapter 99 in numerical sequence:

“(www) The U.S. Trade Representative determined to establish a process by which particular products classified in heading 9903.88.02 and provided for in U.S. notes 20(c) and (d) to this subchapter could be excluded from the additional duties imposed by heading 9903.88.02. See 83 FR 40823 (August 16, 2018) and 83 FR 47236 (September 18, 2018). Pursuant to the product exclusion process, the U.S. Trade Representative has determined that the additional duties imposed by heading 9903.88.02 and U.S. note 20(d) to this subchapter shall not apply to the products of China described herein and classified in the specified subheadings of heading 8486 of the tariff schedule, when such products of China are entered with a claim for the tariff treatment provided in heading 9903.88.70 of this subchapter:

(1) Silicon growth furnaces, including Czochralski crystal growth furnaces, designed for growing monocrystalline silicon ingots (boules) of a mass exceeding 700 kg, for use in solar wafer manufacturing (described in statistical reporting number 8486.10.0000)

(2) Band saws designed for cutting or slicing cylindrical monocrystalline silicon ingots (boules) of an initial mass exceeding 400 kg into square or rectangular ingots (boules), for use in solar wafer manufacturing (described in statistical reporting number 8486.10.0000)

(3) Machines designed to align and adhere square or rectangular monocrystalline silicon ingots (boules) of an initial mass exceeding 200 kg to plastic support boards on metal mounting plates to provide support during diamond wire sawing, for use in solar wafer manufacturing (described in statistical reporting number 8486.10.0000)

(4) Diamond wire saws designed for cutting or slicing square or rectangular monocrystalline silicon ingots (boules) of an initial mass exceeding 400 kg into solar wafers of a thickness not exceeding 200 micrometers (described in statistical reporting number 8486.10.0000)

(5) Wire guide roller machines, presented with diamond wire saws designed for slicing square or rectangular monocrystalline silicon ingots (boules) of an initial mass exceeding 400 kg into solar wafers of a thickness not exceeding 200 micrometers, all of the foregoing for use in solar wafer manufacturing (described in statistical reporting number 8486.10.0000)

(6) Coolant fluid recycling machines, presented with diamond wire saws designed for slicing square or rectangular monocrystalline silicon ingots (boules) of an initial mass exceeding 400 kg into solar wafers of a thickness not exceeding 200 micrometers, all of the foregoing for use in solar wafer manufacturing (described in statistical reporting number 8486.10.0000)

(7) Degumming machines designed to remove adhesives from solar wafers (described in statistical reporting number 8486.10.0000)

(8) Texturing, etching, polishing, and cleaning machines designed to prepare, repair, clean, etch, polish or texture the solar wafer substrate, whether or not integrated with automation equipment for transferring solar wafers from one process station to the next, all the foregoing for use in solar wafer manufacturing (described in statistical reporting number 8486.20.0000)

(9) Thermal diffusion quartz-tube furnaces, designed to diffuse dopant impurities into square or rectangular silicon wafers, whether or not integrated with automation equipment for transferring solar wafers from one process station to the next or boat loading or unloading machines, all the foregoing for use in solar cell manufacturing (described in statistical reporting number 8486.20.0000)

(10) Plasma-enhanced or low-pressure chemical vapor deposition machines designed to deposit amorphous or nanocrystalline layers on one or both surfaces of a solar wafer, whether or not integrated with automation equipment for transferring solar wafers from one process station to the next, all the foregoing for use in solar cell manufacturing (described in statistical reporting number 8486.20.0000)

(11) Physical vapor deposition (PVD) machines, designed to deposit a thin film of transparent conducting oxide on one or both surfaces of a solar wafer, whether or not integrated with automation equipment for transferring solar wafers from one process station to the next, all the foregoing for use in solar cell manufacturing (described in statistical reporting number 8486.20.0000)

(12) Screen printing line machines, including sintering furnaces for printing conducting contacts on both surfaces of a solar wafer, whether or not integrated with automation equipment for transferring solar wafers from one process station to the next, and whether or not integrated with equipment for solar cell testing, all the foregoing for use in solar cell manufacturing (described in statistical reporting number 8486.20.0000)

(13) Machines designed for transporting polysilicon material to growth furnaces and machines designed for transporting monocrystalline ingots (boules) and wafers throughout the solar wafer manufacturing process, including machines for loading or unloading solar wafers during the diamond wire slicing process (described in statistical reporting number 8486.40.0030)

(14) Machines designed for lifting, handling, loading, or unloading of solar wafers of a thickness not exceeding 200 micrometers, for use in solar wafer manufacturing (described in statistical reporting number 8486.40.0030)

9. Effective on September 27, 2024, subdivision (s)(i) of note 20 to subchapter III of chapter 99 of the HTSUS is modified by deleting “6307.90.98” and subdivision (s)(ii) of note 20 to subchapter III of chapter 99 of the HTSUS is modified by inserting the following in numerical order: “5. Other made-up articles of textile materials, provided for in subheading 6307.90.98, except for respirators of textiles, described in statistical reporting numbers 6307.90.9842, 6307.90.9844 or 6307.90.9850, and except for face masks of textiles, other than disposable, described in statistical reporting number 6307.90.9875;”.

10. Effective on September 27, 2024, subdivision (s)(i) of note 20 to subchapter III of chapter 99 of the HTSUS is modified by deleting “8507.60.00” and subdivision (s)(ii) of note 20 to subchapter III of chapter 99 of the HTSUS is modified by inserting the following in numerical order: “6. Lithium-ion batteries, provided for in subheading 8507.60.00, except for lithium-ion batteries of a kind used as the primary source of electrical power for electrically powered vehicles of subheadings 8703.40, 8703.50, 8703.60, 8703.70 or 8703.80, described in statistical reporting number 8507.60.0010”.

11. Effective on September 27, 2024, note 20(b) to subchapter III of chapter 99 is modified by deleting the following 8-digit subheading numbers:

(1) 8702.40.31

(2) 8702.40.61

(3) 8702.90.31

(4) 8702.90.61

(5) 8703.60.00

(6) 8703.70.00

(7) 8703.80.00

(8) 8703.90.01

12. Effective on September 27, 2024, note 20(d) to subchapter III of chapter 99 is modified by deleting the following 8-digit subheading numbers:

(1) 8541.42.00

(2) 8541.43.00

13. Effective on September 27, 2024, note 20(s)(i) to subchapter III of chapter 99 is modified by deleting the following 8-digit subheading numbers:

(1) 7206.10.00

(2) 7206.90.00

(3) 7207.11.00

(4) 7207.12.00

(5) 7207.19.00

(6) 7207.20.00

(7) 7208.10.15

(8) 7208.10.30

(9) 7208.10.60

(10) 7208.25.30

(11) 7208.25.60

(12) 7208.26.00

(13) 7208.27.00

(14) 7208.36.00

(15) 7208.37.00

(16) 7208.38.00

(17) 7208.39.00

(18) 7208.40.30

(19) 7208.40.60

(20) 7208.51.00

(21) 7208.52.00

(22) 7208.53.00

(23) 7208.54.00

(24) 7208.90.00

(25) 7209.15.00

(26) 7209.16.00

(27) 7209.17.00

(28) 7209.18.15

(29) 7209.18.25

(30) 7209.18.60

(31) 7209.25.00

(32) 7209.26.00

(33) 7209.27.00

(34) 7209.28.00

(35) 7209.90.00

(36) 7210.11.00

(37) 7210.12.00

(38) 7210.30.00

(39) 7210.41.00

(40) 7210.49.00

(41) 7210.50.00

(42) 7210.61.00

(43) 7210.69.00

(44) 7210.70.30

(45) 7210.70.60

(46) 7210.90.10

(47) 7210.90.60

(48) 7210.90.90

(49) 7211.13.00

(50) 7211.14.00

(51) 7211.19.15

(52) 7211.19.20

(53) 7211.19.30

(54) 7211.19.45

(55) 7211.19.60

(56) 7211.19.75

(57) 7211.23.15

(58) 7211.23.20

(59) 7211.23.30

(60) 7211.23.45

(61) 7211.23.60

(62) 7211.29.20

(63) 7211.29.45

(64) 7211.29.60

(65) 7211.90.00

(66) 7212.10.00

(67) 7212.20.00

(68) 7212.30.10

(69) 7212.30.30

(70) 7212.30.50

(71) 7212.40.10

(72) 7212.40.50

(73) 7212.50.00

(74) 7212.60.00

(75) 7213.10.00

(76) 7213.20.00

(77) 7213.91.30

(78) 7213.91.45

(79) 7213.91.60

(80) 7213.99.00

(81) 7214.20.00

(82) 7214.30.00

(83) 7214.91.00

(84) 7214.99.00

(85) 7215.10.00

(86) 7215.50.00

(87) 7215.90.10

(88) 7215.90.50

(89) 7216.10.00

(90) 7216.21.00

(91) 7216.22.00

(92) 7216.31.00

(93) 7216.32.00

(94) 7216.33.00

(95) 7216.40.00

(96) 7216.50.00

(97) 7216.99.00

(98) 7217.10.10

(99) 7217.10.20

(100) 7217.10.30

(101) 7217.10.50

(102) 7217.10.60

(103) 7217.10.70

(104) 7217.10.80

(105) 7217.10.90

(106) 7217.20.15

(107) 7217.20.30

(108) 7217.20.45

(109) 7217.20.60

(110) 7217.20.75

(111) 7217.30.15

(112) 7217.30.30

(113) 7217.30.60

(114) 7217.30.75

(115) 7217.90.10

(116) 7217.90.50

(117) 7218.10.00

(118) 7218.91.00

(119) 7218.99.00

(120) 7219.11.00

(121) 7219.12.00

(122) 7219.13.00

(123) 7219.14.00

(124) 7219.21.00

(125) 7219.22.00

(126) 7219.23.00

(127) 7219.24.00

(128) 7219.31.00

(129) 7219.32.00

(130) 7219.33.00

(131) 7219.34.00

(132) 7219.35.00

(133) 7219.90.00

(134) 7220.12.10

(135) 7220.12.50

(136) 7220.20.10

(137) 7220.20.60

(138) 7220.20.70

(139) 7220.20.80

(140) 7220.90.00

(141) 7221.00.00

(142) 7222.11.00

(143) 7222.19.00

(144) 7222.20.00

(145) 7222.30.00

(146) 7222.40.30

(147) 7222.40.60

(148) 7223.00.10

(149) 7223.00.50

(150) 7223.00.90

(151) 7224.10.00

(152) 7224.90.00

(153) 7225.11.00

(154) 7225.19.00

(155) 7225.30.11

(156) 7225.30.30

(157) 7225.30.51

(158) 7225.30.70

(159) 7225.40.11

(160) 7225.40.30

(161) 7225.40.51

(162) 7225.40.70

(163) 7225.50.11

(164) 7225.50.60

(165) 7225.50.70

(166) 7225.50.80

(167) 7225.91.00

(168) 7225.92.00

(169) 7225.99.00

(170) 7226.11.10

(171) 7226.11.90

(172) 7226.19.10

(173) 7226.19.90

(174) 7226.20.00

(175) 7226.91.05

(176) 7226.91.15

(177) 7226.91.25

(178) 7226.91.50

(179) 7226.91.70

(180) 7226.91.80

(181) 7226.92.10

(182) 7226.92.30

(183) 7226.92.50

(184) 7226.92.70

(185) 7226.92.80

(186) 7226.99.01

(187) 7227.10.00

(188) 7227.20.00

(189) 7227.90.10

(190) 7227.90.20

(191) 7227.90.60

(192) 7228.20.10

(193) 7228.20.50

(194) 7228.30.40

(195) 7228.30.60

(196) 7228.30.80

(197) 7228.40.00

(198) 7228.50.10

(199) 7228.50.50

(200) 7228.60.10

(201) 7228.60.60

(202) 7228.60.80

(203) 7228.70.30

(204) 7228.70.60

(205) 7229.20.00

(206) 7229.90.10

(207) 7229.90.50

(208) 7229.90.90

(209) 7301.10.00

(210) 7302.10.10

(211) 7302.10.50

(212) 7302.90.10

(213) 7302.90.90

(214) 7304.11.00

(215) 7304.19.10

(216) 7304.19.50

(217) 7304.22.00

(218) 7304.23.60

(219) 7304.24.30

(220) 7304.24.40

(221) 7304.24.60

(222) 7304.29.10

(223) 7304.29.20

(224) 7304.29.31

(225) 7304.29.41

(226) 7304.29.50

(227) 7304.29.61

(228) 7304.31.30

(229) 7304.31.60

(230) 7304.39.00

(231) 7304.49.00

(232) 7304.51.10

(233) 7304.51.50

(234) 7304.59.10

(235) 7304.59.20

(236) 7304.59.60

(237) 7304.59.80

(238) 7304.90.10

(239) 7304.90.70

(240) 7305.11.10

(241) 7305.11.50

(242) 7305.12.10

(243) 7305.12.50

(244) 7305.19.10

(245) 7305.19.50

(246) 7305.20.20

(247) 7305.20.40

(248) 7305.20.60

(249) 7305.20.80

(250) 7305.31.20

(251) 7305.31.40

(252) 7305.31.60

(253) 7305.39.10

(254) 7305.39.50

(255) 7305.90.10

(256) 7305.90.50

(257) 7306.11.00

(258) 7306.19.10

(259) 7306.19.51

(260) 7306.21.30

(261) 7306.21.40

(262) 7306.21.80

(263) 7306.29.10

(264) 7306.29.20

(265) 7306.29.31

(266) 7306.29.41

(267) 7306.29.60

(268) 7306.29.81

(269) 7306.30.10

(270) 7306.30.30

(271) 7306.30.50

(272) 7306.40.10

(273) 7306.40.50

(274) 7306.50.10

(275) 7306.50.30

(276) 7306.50.50

(277) 7306.61.10

(278) 7306.61.30

(279) 7306.61.50

(280) 7306.61.70

(281) 7306.69.10

(282) 7306.69.30

(283) 7306.69.70

(284) 7306.90.10

(285) 7306.90.50

(286) 7601.10.30

(287) 7601.10.60

(288) 7601.20.30

(289) 7601.20.60

(290) 7601.20.90

(291) 7604.10.10

(292) 7604.10.30

(293) 7604.10.50

(294) 7604.21.00

(295) 7604.29.10

(296) 7604.29.30

(297) 7604.29.50

(298) 7605.11.00

(299) 7605.19.00

(300) 7605.21.00

(301) 7605.29.00

(302) 7606.11.30

(303) 7606.11.60

(304) 7606.12.30

(305) 7606.12.60

(306) 7606.91.30

(307) 7606.91.60

(308) 7606.92.30

(309) 7606.92.60

(310) 7607.11.30

(311) 7607.11.60

(312) 7607.11.90

(313) 7607.19.60

(314) 7607.20.10

(315) 7608.10.00

(316) 7608.20.00

(317) 7609.00.00

(318) 8507.90.40

14. Effective on September 27, 2024, note 20(s)(ii)(4) to subchapter III of chapter 99 is modified by deleting “9401.71.00031” and by inserting “9401.71.0031” in lieu thereof.

15. Effective on September 27, 2024, note 20(u)(i) to subchapter III of chapter 99 is modified by deleting the following 8-digit subheading numbers:

(1) 7210.20.00

(2) 7215.90.30

(3) 7302.40.00

(4) 7304.23.30

16. Effective on January 1, 2025, note 20(b) to subchapter III of chapter 99 is modified by deleting the following 8-digit subheading numbers:

(1) 8541.21.00

(2) 8541.29.00

(3) 8541.30.00

(4) 8541.49.70

(5) 8541.49.80

(6) 8541.49.95

(7) 8541.51.00

(8) 8541.59.00

(9) 8541.90.00

17. Effective on January 1, 2025, note 20(d) to subchapter III of chapter 99 is modified by deleting the following 8-digit subheading numbers:

(1) 8541.10.00

(2) 8541.49.10

(3) 8542.31.00

(4) 8542.32.00

(5) 8542.33.00

(6) 8542.39.00

(7) 8542.90.00

18. Effective on January 1, 2025, note 20(s)(i) to subchapter III of chapter 99 is modified by deleting “4015.12.10”.

19. Effective on January 1, 2025, subparagraph 5 of subdivision (s)(ii) of note 20 to subchapter III of chapter 99 of the HTSUS is modified by deleting “and except for face masks of textiles, other than disposable, described in statistical reporting number 6307.90.9875” and by inserting “and except for face masks of textiles, described in statistical reporting numbers 6307.90.9870 or 6307.90.9875” in lieu thereof.

20. Effective on January 1, 2026, subdivision (s)(ii) of note 20 to subchapter III of chapter 99 of the HTSUS is modified by deleting subparagraph number 6 and its associated tariff language. Subparagraph number 5 of such subdivision is modified by deleting the semicolon at the end of the subparagraph and inserting a period in lieu thereof.

21. Effective on January 1, 2026, subdivision (b) of note 31 to subchapter III of chapter 99 of the HTSUS is modified by deleting subparagraph numbers 1, 2, 3, and 4, and their associated tariff language.

22. Effective on January 1, 2026, subdivision (f) of note 31 to subchapter III of chapter 99 of the HTSUS is modified by deleting “(1) 4015.12.10”.

23. Effective on January 1, 2024:

(1) subdivisions (c) and (d) of note 20 to subchapter III of chapter 99 are each modified: (a) by deleting “or (11)” and by inserting “(11)” in lieu thereof; and (b) by inserting “or (12) heading 9903.88.70 and U.S. note 20(www) to subchapter III of chapter 99” after “U.S. note 20(vvv)(ii) to subchapter III of chapter 99”; and

(2) the article description of heading 9903.88.02 is modified by deleting “or 9903.88.69,” and by inserting in lieu thereof “9903.88.69, or 9903.88.70,” in lieu thereof.

Annex D—Importer Certification

I hereby certify that:

(A) My name is [IMPORTER OF RECORD OFFICIAL'S NAME] and I am an official of [NAME OF IMPORTER OF RECORD], located at [ADDRESS OF IMPORTER OF RECORD].

(B) I hereby certify that the ship-to-shore crane(s) that was entered into the Customs territory of the United States under the entry summary number(s) identified below are fulfilling in whole or in part a contract for sale, purchase, or delivery in the United States of such ship-to-shore crane(s) that was in effect and dated as executed prior to May 14, 2024, that specifies that the ship-to-shore crane(s) is to be imported to or delivered within the United States before May 14, 2026, and that has not been modified on or later than May 14, 2024, with regard to delivery date.

(C) This certification applies to the following entries (repeat this block as many times as necessary):

Entry Number:

Applicable Line Item Number of the Entry (Declared Under 9903.91.09, HTSUS):

(D) I understand that [NAME OF IMPORTER OF RECORD] is required to provide U.S. Customs and Border Protection (CBP) with this certification at the time the entry summary is filed and that any additional supporting documentation must be provided upon request by CBP.

Signature

[NAME OF COMPANY OFFICIAL]

[TITLE OF COMPANY OFFICIAL]

Date

Annex E—Subheadings Eligible for Machinery Exclusion Process

HTSUS subheading | Product description
8417.10.00 | Furnaces and ovens for the roasting, melting or other heat treatment of ores, pyrites or of metals.
8417.80.00 | Industrial or laboratory furnaces and ovens nesoi (not elsewhere specified or included), including incinerators, nonelectric.
8418.69.01 | Refrigerating or freezing equipment nesoi.
8419.33.10 | Lyophilization apparatus; freeze drying units; spray dryers, for agricultural products.
8419.33.50 | Lyophilization apparatus; freeze drying units; spray dryers, other than for agricultural products, nesoi.
8419.34.00 | Other dryers for agricultural products (other than lyophilization apparatus; freeze drying units; spray dryers).
8419.35.10 | Dryers for wood.
8419.35.50 | Dryers for paper pulp, paper or paperboard.
8419.39.02 | Other dryers other than of a kind used for domestic purposes, nesoi (other than lyophilization apparatus; freeze drying units; spray dryers).
8419.40.00 | Distilling or rectifying plant, not used for domestic purposes.
8419.50.10 | Brazed aluminum plate-fin heat exchangers.
8419.50.50 | Heat exchange units, nesoi.
8419.60.10 | Machinery for liquefying air or gas containing brazed aluminum plate-fin heat exchangers.
8419.60.50 | Machinery for liquefying air or gas, nesoi.
8419.89.10 | Machinery and equipment for the treatment of materials (by a process which changes temperatures), for making paper pulp, paper or paperboard.
8419.89.60 | Industrial machinery, plant or equip. for the treat. of mat., involving a change in temp., for molten-salt-cooled acrylic acid reactors.
8419.89.95 | Industrial machinery, plant or equipment for the treatment of materials, by process involving a change in temperature, nesoi.
8420.10.10 | Textile calendering or rolling machines.
8420.10.20 | Calendering or similar rolling machines for making paper pulp, paper or paperboard.
8420.10.90 | Calendering or other rolling machines, other than for metals or glass, nesoi.
8420.91.10 | Cylinders for textile calendering or rolling machines.
8420.91.20 | Cylinders for paper pulp, paper or paperboard calendering or rolling machines.
8420.91.90 | Cylinders for calendering and similar rolling machines, nesoi.
8421.21.00 | Machinery and apparatus for filtering or purifying water.
8421.29.00 | Filtering or purifying machinery and apparatus for liquids, nesoi.
8421.39.01 | Filtering or purifying machinery and apparatus for gases, other than intake air filters or catalytic conv. for internal combustion engines.
8422.19.00 | Dishwashing machines other than of the household type.
8422.20.00 | Machinery for cleaning or drying bottles or other containers.
8422.30.11 | Can-sealing machines.
8422.30.91 | Machinery for filling, closing, sealing, capsuling or labeling bottles, cans, boxes or other containers; machinery for aerating beverages; nesoi.
8422.40.11 | Machinery for packing or wrapping pipe tobacco, candy and cigarette packages; combination candy cutting and wrapping machines.
8422.40.91 | Packing or wrapping machinery, nesoi.
8428.70.00 | Industrial robots.
8429.11.00 | Self-propelled bulldozers and angledozers, for track laying.
8429.19.00 | Self-propelled bulldozers and angledozers other than track laying.
8429.20.00 | Self-propelled graders and levelers.
8429.30.00 | Self-propelled scrapers.
8429.40.00 | Self-propelled tamping machines and road rollers.
8429.51.10 | Self-propelled front-end shovel loaders, wheel-type.
8429.51.50 | Self-propelled front-end shovel loaders, other than wheel-type.
8429.52.10 | Self-propelled backhoes, shovels, clamshells and draglines with a 360 degree revolving superstructure.
8429.52.50 | Self-propelled machinery with a 360 degree revolving superstructure, other than backhoes, shovels, clamshells and draglines.
8429.59.10 | Self-propelled backhoes, shovels, clamshells and draglines not with a 360 degree revolving superstructure.
8429.59.50 | Self-propelled machinery not with a 360 degree revolving superstructure, other than backhoes, shovels, clamshells and draglines.
8430.10.00 | Pile-drivers and pile-extractors.
8430.31.00 | Self-propelled coal or rock cutters and tunneling machinery.
8430.39.00 | Coal or rock cutters and tunneling machinery, not self-propelled.
8430.41.00 | Self-propelled boring or sinking machinery.
8430.49.40 | Offshore oil and natural gas drilling and production platforms.
8430.49.80 | Boring or sinking machinery, not self-propelled, nesoi.
8430.50.10 | Self-propelled peat excavators.
8430.50.50 | Self-propelled machinery for working earth, minerals or ores, nesoi.
8430.61.00 | Tamping or compacting machinery, not self-propelled.
8430.69.01 | Machinery for working earth, minerals or ores, not self-propelled, nesoi.
8432.10.00 | Plows for soil preparation or cultivation.
8432.21.00 | Disc harrows for soil preparation or cultivation.
8432.29.00 | Harrows (other than disc), scarifiers, cultivators, weeders and hoes for soil preparation or cultivation.
8432.31.00 | No-till direct seeders, planters and transplanters.
8432.39.00 | Seeders, planters and transplanters, nesoi.
8432.41.00 | Manure spreaders.
8432.42.00 | Fertilizer distributors.
8432.80.00 | Agricultural, horticultural or forestry machinery for soil preparation or cultivation, nesoi; lawn or sports ground rollers.
8433.30.00 | Haymaking machinery other than mowers.
8433.40.00 | Straw or fodder balers, including pick-up balers.
8433.51.00 | Combine harvester-threshers.
8433.52.00 | Threshing machinery other than combine harvester-threshers.
8433.53.00 | Root or tuber harvesting machines.
8433.59.00 | Harvesting machinery or threshing machinery, nesoi.
8433.60.00 | Machines for cleaning, sorting or grading eggs, fruit or other agricultural produce.
8435.10.00 | Presses, crushers and similar machinery used in the manufacture of wine, cider, fruit juices or similar beverages.
8436.10.00 | Machinery for preparing animal feeds.
8436.21.00 | Poultry incubators and brooders.
8436.29.00 | Poultry-keeping machinery.
8436.80.00 | Agricultural, horticultural, forestry or bee-keeping machinery, nesoi.
8437.10.00 | Machines for cleaning, sorting or grading seed, grain or dried leguminous vegetables.
8437.80.00 | Machinery used in the milling industry or for the working of cereals or dried leguminous vegetables, other than farm type machinery.
8438.10.00 | Bakery machinery and machinery for the manufacture of macaroni, spaghetti or similar products, nesoi.
8438.20.00 | Machinery for the manufacture of confectionery, cocoa or chocolate, nesoi.
8438.30.00 | Machinery for sugar manufacture, nesoi.
8438.40.00 | Brewery machinery, nesoi.
8438.50.00 | Machinery for the preparation of meat or poultry, nesoi.
8438.60.00 | Machinery for the preparation of fruits, nuts or vegetables, nesoi.
8438.80.00 | Machinery for the industrial preparation or manufacture of food or drink, nesoi.
8439.10.00 | Machinery for making pulp of fibrous cellulosic material.
8439.20.00 | Machinery for making paper or paperboard.
8439.30.00 | Machinery for finishing paper or paperboard.
8441.10.00 | Cutting machines of all kinds used for making up paper pulp, paper or paperboard.
8441.20.00 | Machines for making bags, sacks or envelopes of paper pulp, paper or paperboard.
8441.30.00 | Machines for making cartons, boxes, cases, tubes, drums or similar containers, other than by molding, of paper pulp, paper or paperboard.
8441.40.00 | Machines for molding articles in paper pulp, paper or paperboard.
8441.80.00 | Machinery for making up paper pulp, paper or paperboard, nesoi.
8442.30.01 | Machinery, apparatus and equipment of heading 8442.
8442.50.10 | Printing plates.
8442.50.90 | Printing type, blocks, cylinders and other printing components; blocks, cylinders and lithographic stones, prepared for printing purposes.
8443.19.30 | Printing machinery, nesoi.
8444.00.00 | Machines for extruding, drawing, texturing or cutting man-made textile materials.
8445.11.00 | Carding machines for preparing textile fibers.
8445.12.00 | Combing machines for preparing textile fibers.
8445.13.00 | Drawing or roving machines for preparing textile fibers.
8445.19.00 | Machines for preparing textile fibers, nesoi.
8445.20.00 | Textile spinning machines.
8445.30.00 | Textile doubling or twisting machines.
8445.40.00 | Textile winding (including weft-winding) or reeling machines.
8445.90.00 | Machinery for producing textile yarns nesoi; machines for preparing textile yarns for use on machines of heading 8446 or 8447.
8446.10.00 | Weaving machines (looms) for weaving fabrics of a width not exceeding 30 cm.
8446.21.50 | Shuttle type power looms for weaving fabrics of a width exceeding 30 cm, but not exceeding 4.9 m.
8446.29.00 | Weaving machines for weaving fabrics of a width exceeding 30 cm, shuttle type, nesoi.
8446.30.10 | Shuttleless type power looms, for weaving fabrics of a width exceeding 4.9 m, nesoi.
8446.30.50 | Shuttleless type weaving machines (looms), for weaving fabrics of a width exceeding 30 cm, nesoi.
8447.11.10 | Circular knitting machines with cylinder diameter not exceeding 165 mm, for knitting hosiery.
8447.11.90 | Circular knitting machines with cylinder diameter not exceeding 165 mm, other than for knitting hosiery.
8447.12.10 | Circular knitting machines with cylinder diameter exceeding 165 mm, for knitting hosiery.
8447.12.90 | Circular knitting machines with cylinder diameter exceeding 165 mm, other than for knitting hosiery.
8447.20.20 | V-bed flat knitting machines, power driven, over 50.8 mm in width.
8447.20.30 | V-bed flat knitting machines, nesoi.
8447.20.40 | Warp knitting machines.
8447.20.60 | Flat knitting machines, other than V-bed or warp; stitch-bonding machines.
8447.90.10 | Braiding and lace-braiding machines.
8447.90.50 | Embroidery machines.
8447.90.90 | Knitting machines other than circular or flat knitting; machines for making gimped yarn, tulle, trimmings or net; machines for tufting.
8448.11.00 | Dobbies and Jacquards, card reducing, copying, punching or assembling machines for use with machines of heading 8444, 8445, 8446 or 8447.
8448.19.00 | Auxiliary machinery for machines of heading 8444, 8445, 8446 or 8447, nesoi.
8448.31.00 | Card clothing as parts and accessories of machines of heading 8445 or of their auxiliary machinery.
8448.33.00 | Spindles, spindle flyers, spinning rings and ring travellers of machines of heading 8445 or of their auxiliary machines.
8448.42.00 | Reeds for looms, healds and heald-frames of weaving machines (looms) or their auxiliary machinery.
8448.51.10 | Latch needles for knitting machines.
8448.51.20 | Spring-beard needles for knitting machines.
8448.51.30 | Needles for knitting machines other than latch needles or spring-beard needles.
8448.51.50 | Sinkers, needles and other articles used to form stitches, nesoi, for machines of heading 8447.
8449.00.10 | Finishing machinery for felt or nonwovens and parts thereof.
8449.00.50 | Machinery for making felt hats; blocks for making hats; parts thereof.
8451.29.00 | Drying machines for yarns, fabrics or made up textile articles, each of a dry linen capacity exceeding 10 kg.
8451.30.00 | Ironing machines and presses (including fusing presses) for textile fabrics or made up textile articles.
8451.40.00 | Washing, bleaching or dyeing machines for textile yarns, fabrics or made up textile articles.
8451.50.00 | Machines for reeling, unreeling, folding, cutting or pinking textile fabrics.
8451.80.00 | Machinery for the handling of textile yarns, fabrics or made up textile articles, nesoi.
8452.21.10 | Sewing machines specially designed to join footwear soles to uppers, automatic.
8452.21.90 | Sewing machines, automatic, nesoi.
8452.29.10 | Sewing machines, other than automatic, specially designed to join footwear soles to uppers.
8452.29.90 | Sewing machines, other than automatic, nesoi.
8453.10.00 | Machinery for preparing, tanning or working hides, skins or leather.
8453.20.00 | Machinery for making or repairing footwear.
8453.80.00 | Machinery, nesoi, for making or repairing articles of hides, skins or leather.
8454.10.00 | Converters of a kind used in metallurgy or in metal foundries.
8454.20.00 | Ingot molds and ladles, of a kind used in metallurgy or in metal foundries.
8454.30.00 | Casting machines, of a kind used in metallurgy or in metal foundries.
8455.10.00 | Metal-rolling tube mills.
8455.21.00 | Metal-rolling mills, other than tube mills, hot or combination hot and cold.
8455.22.00 | Metal-rolling mills, other than tube mills, cold.
8455.30.00 | Rolls for metal-rolling mills.
8456.11.10 | Machine tools operated by laser, for working metal.
8456.11.70 | Machine tools operated by laser, of a kind used solely or principally for manufacture of printed circuits.
8456.11.90 | Machine tools operated by laser, nesoi.
8456.12.10 | Machine tools operated by light or photon beam processes, for working metal.
8456.12.70 | Machine tools operated by light or photon beam processes, of a kind used solely or principally for the manufacture of printed circuits.
8456.12.90 | Machine tools operated by light or photon beam processes, nesoi.
8456.20.10 | Machine tools operated by ultrasonic processes, for working metal.
8456.20.50 | Machine tools operated by ultrasonic processes, other than for working metal.
8456.30.10 | Machine tools operated by electro-discharge processes, for working metal.
8456.30.50 | Machine tools operated by electro-discharge processes, other than for working metal.
8456.40.10 | Machine tools operated by plasma arc process, for working metal.
8456.40.90 | Machine tools operated by plasma arc process, other than for working metal.
8456.50.00 | Water-jet cutting machines.
8456.90.31 | Machine tools operated by electro-chemical or ionic-beam processes, for working metal.
8456.90.71 | Machine tools operated by electro-chemical or ionic-beam processes, other than for working metal.
8457.10.00 | Machining centers for working metal.
8457.20.00 | Unit construction machines (single station), for working metal.
8457.30.00 | Multistation transfer machines for working metal.
8458.11.00 | Horizontal lathes (including turning centers) for removing metal, numerically controlled.
8458.19.00 | Horizontal lathes (including turning centers) for removing metal, other than numerically controlled.
8458.91.10 | Vertical turret lathes (including turning centers) for removing metal, numerically controlled.
8458.91.50 | Lathes (including turning centers), other than horizontal or vertical turret lathes, for removing metal, numerically controlled.
8458.99.10 | Vertical turret lathes (including turning centers) for removing metal, other than numerically controlled.
8458.99.50 | Lathes (including turning centers), other than horizontal or vertical turret lathes, for removing metal, other than numerically controlled.
8459.10.00 | Way-type unit head machines for drilling, boring, milling, threading or tapping by removing metal, other than lathes of heading 8458.
8459.21.00 | Drilling machines, numerically controlled, nesoi.
8459.29.00 | Drilling machines, other than numerically controlled, nesoi.
8459.31.00 | Boring-milling machines, numerically controlled, nesoi.
8459.39.00 | Boring-milling machines, other than numerically controlled, nesoi.
8459.41.00 | Boring machines, numerically controlled, nesoi.
8459.49.00 | Boring machines, not numerically controlled, nesoi.
8459.51.00 | Milling machines, knee type, numerically controlled, nesoi.
8459.59.00 | Milling machines, knee type, other than numerically controlled, nesoi.
8459.61.00 | Milling machines, other than knee type, numerically controlled, nesoi.
8459.69.00 | Milling machines, other than knee type, other than numerically controlled, nesoi.
8459.70.40 | Other threading or tapping machines, numerically controlled.
8459.70.80 | Other threading or tapping machines nesoi.
8460.12.00 | Flat-surface grinding machines, numerically controlled.
8460.19.01 | Flat-surface grinding machines, not numerically controlled.
8460.22.00 | Centerless grinding machines, numerically controlled.
8460.23.00 | Other cylindrical grinding machines, numerically controlled.
8460.24.00 | Other grinding machines, numerically controlled.
8460.29.01 | Other grinding machines, other than numerically controlled.
8460.31.00 | Sharpening (tool or cutter grinding) machines for working metal or cermets, numerically controlled.
8460.39.00 | Sharpening (tool or cutter grinding) machines for working metal or cermets, other than numerically controlled.
8460.40.40 | Honing or lapping machines for working metal or cermets, numerically controlled.
8460.40.80 | Honing or lapping machines for working metal or cermets, other than numerically controlled.
8460.90.40 | Other machine tools for deburring, polishing or otherwise finishing metal or cermets, nesoi, numerically controlled.
8460.90.80 | Other machine tools for deburring, polishing or otherwise finishing metal or cermets, nesoi, other than numerically controlled.
8461.20.40 | Shaping or slotting machines for working by removing metal or cermets, numerically controlled.
8461.20.80 | Shaping or slotting machines for working by removing metal or cermets, other than numerically controlled.
8461.30.40 | Broaching machines for working by removing metal or cermets, numerically controlled.
8461.30.80 | Broaching machines for working by removing metal or cermets, other than numerically controlled.
8461.40.10 | Gear cutting machines for working by removing metal or cermets.
8461.40.50 | Gear grinding or finishing machines for working by removing metal or cermets.
8461.50.40 | Sawing or cutting-off machines for working by removing metal or cermets, numerically controlled.
8461.50.80 | Sawing or cutting-off machines for working by removing metal or cermets, other than numerically controlled.
8461.90.30 | Machine-tools for working by removing metal or cermets, nesoi, numerically controlled.
8461.90.60 | Machine-tools for working by removing metal or cermets, nesoi, other than numerically controlled.
8462.11.00 | Hot forming machines for forging, die forging (including presses) and hot hammers, closed die forging machines.
8462.19.00 | Other hot forming machines for forging, die forging (including presses) and hot hammers (other than closed die forging machines), nesoi.
8462.22.00 | Profile forming machines.
8462.23.00 | Numerically controlled press brakes.
8462.24.00 | Numerically controlled panel benders.
8462.25.00 | Numerically controlled roll forming machines.
8462.26.00 | Other numerically controlled bending, folding, straightening or flattening machines (o/t press brakes, panel benders, roll forming machines).
8462.29.00 | Other bending folding straightening or flattening machines (other than numerically controlled or profile forming machines), nesoi.
8462.32.10 | Numerically controlled sitting lines and cut-to-length lines.
8462.32.50 | Sitting lines and cut-to-length lines (other than numerically controlled), nesoi.
8462.33.00 | Numerically controlled shearing machines.
8462.39.00 | Shearing machines (other than numerically controlled), nesoi.
8462.42.00 | Numerically controlled punching, notching or nibbling machines (excluding presses) for flat products.
8462.49.00 | Other punching, notching or nibbling machines (excluding presses) for flat products, other than numerically controlled.
8462.51.00 | Numerically controlled machines for working tube, pipe, hollow section and bar (excluding presses).
8462.59.00 | Other machines for working tube, pipe, hollow section and bar (excluding presses), other than numerically controlled.
8462.61.40 | Hydraulic presses, numerically controlled.
8462.61.80 | Hydraulic presses, not numerically controlled.
8462.62.40 | Numerically controlled mechanical cold metal working presses.
8462.62.50 | Other mechanical cold metal working presses, other than numerically controlled.
8462.63.40 | Numerically controlled cold metal working servo-presses.
8462.63.80 | Other cold metal working servo-presses, other than numerically controlled.
8462.69.40 | Numerically controlled other cold metal working presses, nesoi.
8462.69.80 | Other cold metal working presses, other than numerically controlled, nesoi.
8462.90.40 | Other numerically controlled machines tools for working metal, nesoi.
8462.90.80 | Other machines tools for working metal, other than numerically controlled, nesoi.
8463.10.00 | Draw-benches for bars, tubes, profiles, wire or the like, for working metal or cermets, without removing material.
8463.20.00 | Thread rolling machines for working metal or cermets, without removing material.
8463.30.00 | Machines for working wire of metal or cermets, without removing material.
8463.90.00 | Machine tools for working metal or cermets, without removing material, nesoi.
8464.10.01 | Sawing machines for working stone, ceramics, concrete, asbestos-cement or like mineral materials or for cold working glass.
8464.20.01 | Grinding or polishing machines for working stone, ceramics, concrete, asbestos-cement or like mineral materials, or glass, nesoi.
8464.90.01 | Machine tools for working stone, ceramics, concrete, asbestos-cement or like mineral materials or for cold working glass, nesoi.
8465.10.00 | Machines for working certain hard materials which can carry out different types of machining operations w/o tool change between operations.
8465.20.10 | Machine centers for sawing, planing, milling, molding, grinding, sanding, polishing, drilling or mortising.
8465.20.50 | Machine centers for bending or assembling.
8465.20.80 | Machine centers, nesoi.
8465.91.00 | Sawing machines for working wood, cork, bone, hard rubber, hard plastics or similar hard materials.
8465.92.00 | Planing, milling or molding (by cutting) machines for working wood, cork, bone, hard rubber, hard plastics or similar hard materials.
8465.93.00 | Grinding, sanding or polishing machines for working wood, cork, bone, hard rubber, hard plastics or similar hard materials.
8465.94.00 | Bending or assembling machines for working wood, cork, bone hard rubber, hard plastics or similar hard materials.
8465.95.00 | Drilling or mortising machines for working wood, cork, bone, hard rubber, hard plastics or similar hard materials.
8465.96.00 | Splitting, slicing or paring machines for working wood, cork, bone, hard rubber, hard plastics or similar hard materials.
8465.99.02 | Machine tools for working wood, cork, bone, hard rubber, hard plastics and similar hard materials, nesoi.
8468.20.10 | Gas-operated machinery, apparatus and appliances, hand-directed or -controlled, used for soldering, brazing, welding or tempering, nesoi.
8468.20.50 | Gas-operated machinery, apparatus and appliances, not hand-directed or -controlled, used for soldering, brazing, welding or tempering, nesoi.
8468.80.10 | Machinery and apparatus, hand-directed or -controlled, used for soldering, brazing or welding, not gas-operated.
8468.80.50 | Machinery and apparatus other than hand-directed or -controlled, used for soldering, brazing or welding, not gas- operated.
8474.10.00 | Sorting, screening, separating or washing machines for earth, stones, ores or other mineral substances in solid form.
8474.20.00 | Crushing or grinding machines for earth, stones, ores or other mineral substances.
8474.31.00 | Concrete or mortar mixers.
8474.32.00 | Machines for mixing mineral substances with bitumen.
8474.39.00 | Mixing or kneading machines for earth, stones, ores or other mineral substances, nesoi.
8474.80.00 | Machinery for agglomerating, shaping or molding solid mineral fuels, or other mineral products; machines for forming sand foundry molds.
8475.10.00 | Machines for assembling electric or electronic lamps, tubes or flashbulbs, in glass envelopes.
8475.21.00 | Machines for making glass optical fibers and preforms thereof.
8475.29.00 | Machines for manufacturing or hot working glass or glassware, nesoi.
8477.10.30 | Injection-molding machines for manufacturing shoes of rubber or plastics.
8477.10.40 | Injection-molding machines for use in the manufacture of video laser discs.
8477.10.90 | Injection-molding machines of a type used for working or manufacturing products from rubber or plastics, nesoi.
8477.20.00 | Extruders for working rubber or plastics or for the manufacture of products from these materials, nesoi.
8477.30.00 | Blow-molding machines for working rubber or plastics or for the manufacture of products from these materials.
8477.40.01 | Vacuum-molding and other thermoforming machines for working rubber or plastics or for manufacture of products from these materials, nesoi.
8477.51.00 | Machinery for molding or retreading pneumatic tires or for molding or otherwise forming inner tubes.
8477.59.01 | Machinery for molding or otherwise forming rubber or plastics other than for molding or retreading pneumatic tires, nesoi.
8477.80.01 | Machinery for working rubber or plastics or for the manufacture of products from these materials, nesoi.
8478.10.00 | Machinery for preparing or making up tobacco, nesoi.
8479.10.00 | Machinery for public works, building or the like, nesoi.
8479.20.00 | Machinery for the extraction or preparation of animal or fixed vegetable fats or oils, nesoi.
8479.30.00 | Presses for making particle board or fiber building board of wood or other ligneous materials, and mach. for treat. wood or cork, nesoi.
8479.40.00 | Rope- or cable-making machines nesoi.
8479.50.00 | Industrial robots, nesoi.
8479.81.00 | Machines and mechanical appliances for treating metal, including electric wire coil-winders, nesoi.
8479.82.00 | Machines for mixing, kneading, crushing, grinding, screening, sifting, homogenizing, emulsifying or stirring, nesoi.
8479.83.00 | Cold isostatic presses, nesoi.
8479.89.83 | Machines for the manufacture of optical media.
8479.89.92 | Automated electronic component placement machines for making printed circuit assemblies.
8479.89.95 | Other machines and mechanical appliances having individual functions, not specified or included elsewhere in chapter 84, nesoi.
8486.10.00 | Machines and apparatus for the manufacture of boules or wafers.
8486.20.00 | Machines and apparatus for the manufacture of semiconductor devices or electronic integrated circuits.
8486.30.00 | Machines and apparatus for the manufacture of flat panel displays.
8486.40.00 | Machines and apparatus for the manufacture of masks and reticles and for the assembly of electronic integrated circuits.
8514.11.00 | Hot isostatic presses.
8514.19.00 | Other resistance heated industrial or laboratory furnaces and ovens, other than hot isostatic presses.
8514.20.40 | Industrial or laboratory microwave ovens for making hot drinks or for cooking or heating food.
8514.20.60 | Industrial or laboratory microwave ovens, nesoi.
8514.20.80 | Industrial or laboratory furnaces and ovens (other than microwave) functioning by induction or dielectric loss.
8514.31.10 | Electron beam furnaces for making printed circuits or printed circuit assemblies.
8514.31.90 | Electron beam furnaces, other than for making printed circuits or printed circuit assemblies.
8514.32.10 | Plasma and vacuum arc furnaces for making printed circuits or printed circuit assemblies.
8514.32.90 | Plasma and vacuum arc furnaces, other than for making printed circuits or printed circuit assemblies.
8514.39.10 | Other industrial furnaces and ovens for making printed circuits or printed circuit assemblies.
8514.39.90 | Other industrial or laboratory electric industrial or laboratory furnaces and ovens nesoi.
8514.40.00 | Industrial or laboratory induction or dielectric heating equipment nesoi.
8515.11.00 | Electric soldering irons and guns.
8515.19.00 | Electric brazing or soldering machines and apparatus, other than soldering irons and guns.
8515.21.00 | Electric machines and apparatus for resistance welding of metal, fully or partly automatic.
8515.29.00 | Electric machines and apparatus for resistance welding of metal, other than fully or partly automatic.
8515.31.00 | Electric machines and apparatus for arc (including plasma arc) welding of metals, fully or partly automatic.
8515.39.00 | Electric machines and apparatus for arc (including plasma arc) welding of metals, other than fully or partly automatic.
8515.80.00 | Electric welding apparatus nesoi,and electric machines and apparatus for hot spraying metals or sintered metal carbides.
8543.30.20 | Electrical machines and apparatus for electroplating, electrolysis, or electrophoresis for making printed circuits.
8543.30.90 | Other electrical machines and apparatus for electroplating, electrolysis, or electrophoresis.
8543.70.20 | Physical vapor deposition apparatus, nesoi.
8543.70.60 | Electrical machines and apparatus nesoi, designed for connection to telegraphic or telephonic apparatus, instruments or networks.
8543.70.71 | Electric luminescent lamps.
8543.70.97 | Plasma cleaner machines that remove organic contaminants from electron microscopy specimens and holders.
8543.70.98 | Other electrical machines and apparatus, having individual functions, nesoi.

[FR Doc. 2024-21217 Filed 9-17-24; 8:45 am]

BILLING CODE 3390-F4-P